DEPARTMENT OF HOUSING AND URBAN DEVELOPMENT

[Docket No. FR-5186-N-10]

Federal Property Suitable as Facilities To Assist the Homeless

AGENCY: Office of the Assistant Secretary for Community Planning and Development, HUD.

ACTION: Notice.

SUMMARY: This Notice identifies unutilized, underutilized, excess, and surplus Federal property reviewed by HUD for suitability for possible use to assist the homeless.

FOR FURTHER INFORMATION CONTACT: Kathy Ezzell, Department of Housing and Urban Development, 451 Seventh Street, SW., Room 7266, Washington, DC 20410; telephone (202) 708-1234; TTY number for the hearing- and speech-impaired (202) 708-2565 (these telephone numbers are not toll-free), or call the toll-free Title V information line at 800-927-7588.

SUPPLEMENTARY INFORMATION: In accordance with 24 CFR part 581 and section 501 of the Stewart B. McKinney Homeless Assistance Act (42 U.S.C. 11411), as amended, HUD is publishing this Notice to identify Federal buildings and other real property that HUD has reviewed for suitability for use to assist the homeless. The properties were reviewed using information provided to HUD by Federal landholding agencies regarding unutilized and underutilized buildings and real property controlled by such agencies or by GSA regarding its inventory of excess or surplus Federal property. This Notice is also published in order to comply with the December 12, 1988 Court Order in National Coalition for the Homeless v. Veterans Administration, No. 88-2503-OG (D.D.C.).

Properties reviewed are listed in this Notice according to the following categories: Suitable/available, suitable/unavailable, suitable/to be excess, and unsuitable. The properties listed in the three suitable categories have been reviewed by the landholding agencies, and each agency has transmitted to HUD: (1) Its intention to make the property available for use to assist the homeless, (2) its intention to declare the property excess to the agency's needs, or (3) a statement of the reasons that the property cannot be declared excess or made available for use as facilities to assist the homeless.

Properties listed as suitable/available will be available exclusively for homeless use for a period of 60 days from the date of this Notice. Where property is described as for “off-site use only” recipients of the property will be required to relocate the building to their own site at their own expense. Homeless assistance providers interested in any such property should send a written expression of interest to HHS, addressed to John Hicks, Division of Property Management, Program Support Center, HHS, room 5B-17, 5600 Fishers Lane, Rockville, MD 20857; (301) 443-2265. (This is not a toll-free number.) HHS will mail to the interested provider an application packet, which will include instructions for completing the application. In order to maximize the opportunity to utilize a suitable property, providers should submit their written expressions of interest as soon as possible. For complete details concerning the processing of applications, the reader is encouraged to refer to the interim rule governing this program, 24 CFR part 581.

For properties listed as suitable/to be excess, that property may, if subsequently accepted as excess by GSA, be made available for use by the homeless in accordance with applicable law, subject to screening for other Federal use. At the appropriate time, HUD will publish the property in a Notice showing it as either suitable/available or suitable/unavailable.

For properties listed as suitable/unavailable, the landholding agency has decided that the property cannot be declared excess or made available for use to assist the homeless, and the property will not be available.

Properties listed as unsuitable will not be made available for any other purpose for 20 days from the date of this Notice. Homeless assistance providers interested in a review by HUD of the determination of unsuitability should call the toll free information line at 1-800-927-7588 for detailed instructions or write a letter to Mark Johnston at the address listed at the beginning of this Notice. Included in the request for review should be the property address (including zip code), the date of publication in the Federal Register, the landholding agency, and the property number.

For more information regarding particular properties identified in this Notice (i.e., acreage, floor plan, existing sanitary facilities, exact street address), providers should contact the appropriate landholding agencies at the following addresses: Army: Ms. Veronica Rines, Headquarters, Department of the Army, Office of the Assistant Chief of Staff for Installation Management, Attn: DAIM-ZS, Rm. 8536, 2511 Jefferson Davis Hwy., Arlington, VA 22202; (703) 601-2545; (These are not toll-free numbers).

Dated: February 28, 2008.
Mark R. Johnston,
Deputy Assistant Secretary for Special Needs.

Title V, Federal Surplus Property Program; Federal Register Report for 03/07/08

Suitable/Available Properties

Building

Alaska

Bldg. 00001

Kiana Natl Guard Armory

Kiana AK 99749

Landholding Agency: Army

Property Number: 21200340075

Status: Excess

Comments: 1200 sq. ft., butler bldg., needs repair, off-site use only

Bldg. 00001

Holy Cross Armory

High Cross AK 99602

Landholding Agency: Army

Property Number: 21200710051

Status: Excess

Comments: 1200 sq. ft. armory, off-site use only

Bldg. 00105

Ft. Richardson

Ft. Richardson AK

Landholding Agency: Army

Property Number: 21200740040

Status: Excess

Comments: 4992 sq. ft., most recent use—housing, off-site use only

Suitable/Available Properties

Building

Alaska

4 Bldgs.

Ft. Richardson

00112, 00113, 00114, 00115

Ft. Richardson AK

Landholding Agency: Army

Property Number: 21200740041

Status: Excess

Comments: 5184 sq. ft., most recent use—housing, off-site use only

Bldgs. 00120, 00129

Ft. Richardson

Ft. Richardson AK

Landholding Agency: Army

Property Number: 21200740042

Status: Excess

Comments: 4766 sq. ft., most recent use—housing, off-site use only

Bldg. 00136

Ft. Richardson

Ft. Richardson AK

Landholding Agency: Army

Property Number: 21200740043

Status: Excess

Comments: 2383 sq. ft., most recent use—housing, off-site use only

Bldgs. 00139, 00148

Ft. Richardson

Ft. Richardson AK

Landholding Agency: Army

Property Number: 21200740044

Status: Excess

Comments: 4766 sq. ft., most recent use—housing, off-site use only

Suitable/Available Properties

Building

Alaska

6 Bldgs.

Ft. Richardson

00366, 00367, 00369, 00371, 00372, 00373

Ft. Richardson AK

Landholding Agency: Army

Property Number: 21200740045

Status: Excess

Comments: 13743/12642 sq. ft., most recent use—housing, off-site use only

Bldgs. 00392, 00394

Ft. Richardson

Ft. Richardson AK

Landholding Agency: Army

Property Number: 21200740046

Status: Excess

Comments: 18496 sq. ft., most recent use—housing, off-site use only

6 Bldgs.

Ft. Richardson

00413, 00414, 00415, 00416, 00417, 00418

Ft. Richardson AK

Landholding Agency: Army

Property Number: 21200740047

Status: Excess

Comments: 13056 sq. ft., most recent use—housing, off-site use only

Suitable/Available Properties

Building

Alaska

6 Bldgs.

Ft. Richardson

00424, 00425, 00427, 00428, 00429, 00431

Ft. Richardson AK

Landholding Agency: Army

Property Number: 21200740048

Status: Excess

Comments: 13056 sq. ft., most recent use—housing, off-site use only

Arizona

Bldg. S-306

Yuma Proving Ground

Yuma Co: Yuma/La Paz AZ 85365-9104

Landholding Agency: Army

Property Number: 21199420346

Status: Unutilized

Comments: 4103 sq. ft., 2-story, needs major rehab, off-site use only

Bldg. 503, Yuma Proving Ground

Yuma Co: Yuma AZ 85365-9104

Landholding Agency: Army

Property Number: 21199520073

Status: Underutilized

Comments: 3789 sq. ft., 2-story, major structural changes required to meet floor loading code requirements, presence of asbestos, off-site use only

Suitable/Available Properties

Building

Arizona

Bldg. 43002

Fort Huachuca

Cochise AZ 85613-7010

Landholding Agency: Army

Property Number: 21200440066

Status: Excess

Comments: 23,152 sq. ft., presence of asbestos/lead paint, most recent use—dining, off-site use only

Arkansas

7 Bldgs.

Pine Bluff Arsenal

Jefferson AR 71602

Landholding Agency: Army

Property Number: 21200740176

Status: Unutilized

Directions: 12300, 12302, 12304, 12306, 12308, 12310, 12312

Comments: 2400 sq. ft., major repairs, lead base paint abatement required, most recent use—housing, off-site use only

Bldgs. 13700 thru 13709

Pine Bluff Arsenal

Jefferson AR 71602

Landholding Agency: Army

Property Number: 21200740177

Status: Unutilized

Comments: 2328 sq. ft., major repairs, lead base paint abatement required, most recent use—housing, off-site use only

Suitable/Available Properties

Building

California

Bldgs. 18026, 18028

Camp Roberts

Monterey CA 93451-5000

Landholding Agency: Army

Property Number: 21200130081

Status: Excess

Comments: 2024 sq. ft., concrete, poor condition, off-site use only

Bldgs. 00576, 00577

Moffett Field

Santa Clara CA 94035

Landholding Agency: Army

Property Number: 21200710056

Status: Unutilized

Comments: 1968/2400 sq. ft., most recent use—youth shelter, possible asbestos, off-site use only

Bldgs. 08420, 08460, 08480

Moffett Field

Santa Clara CA 94035

Landholding Agency: Army

Property Number: 21200710102

Status: Unutilized

Comments: 8710 sq. ft., possible asbestos/lead paint, most recent use—6 family dwelling unit, off-site use only

Suitable/Available Properties

Building

California

Bldg. 07180

Moffett Field

Santa Clara CA 94035

Landholding Agency: Army

Property Number: 21200740049

Status: Unutilized

Comments: 10256 sq. ft., presence of asbestos/lead paint, most recent use—housing, off-site use only

Bldgs. 5, 6, 7

Bell AFRC

Bell CA 90201

Landholding Agency: Army

Property Number: 21200740050

Status: Unutilized

Comments: 198,000 sq. ft., warehouses, presence of asbestos/lead paint, need major repairs, off-site use only

Colorado

Bldgs. 25, 26, 27

Pueblo Chemical Depot

Pueblo CO 81006

Landholding Agency: Army

Property Number: 21200420178

Status: Unutilized

Comments: 1311 sq. ft., presence of asbestos/lead paint, most recent use—housing, off-site use only

Suitable/Available Properties

Building

Colorado

Bldg. 00127

Pueblo Chemical Depot

Pueblo CO 81006

Landholding Agency: Army

Property Number: 21200420179

Status: Unutilized

Comments: 8067 sq. ft., presence of asbestos, most recent use—barracks, off-site use only

Bldg. 01516

Fort Carson

El Paso CO 80913

Landholding Agency: Army

Property Number: 21200640116

Status: Unutilized

Comments: 723 sq. ft., needs repair, most recent use—storage, off-site use only

Georgia

Bldg. 322

Fort Benning

Ft. Benning Co: Muscogee GA 31905

Landholding Agency: Army

Property Number: 21199720156

Status: Unutilized

Comments: 9600 sq. ft., needs rehab, most recent use—admin., off-site use only

Bldg. 2593

Fort Benning

Ft. Benning Co: Muscogee GA 31905

Landholding Agency: Army

Property Number: 21199720167

Status: Unutilized

Comments: 13644 sq. ft., needs rehab, most recent use—parachute shop, off-site use only

Suitable/Available Properties

Building

Georgia

Bldg. 2595

Fort Benning

Ft. Benning Co: Muscogee GA 31905

Landholding Agency: Army

Property Number: 21199720168

Status: Unutilized

Comments: 3356 sq. ft., needs rehab, most recent use—chapel, off-site use only

Bldg. 4476

Fort Benning

Ft. Benning Co: Muscogee GA 31905

Landholding Agency: Army

Property Number: 21199720184

Status: Unutilized

Comments: 3148 sq. ft., needs rehab, most recent use—vehicle maint. shop, off-site use only

Bldg. 4232

Fort Benning null Co: Muscogee GA 31905

Landholding Agency: Army

Property Number: 21199830291

Status: Unutilized

Comments: 3720 sq. ft., needs rehab, most recent use—maint. bay, off-site use only

Bldg. 2815

Fort Benning

Ft. Benning Co: Muscogee GA 31905

Landholding Agency: Army

Property Number: 21199930129

Status: Unutilized

Comments: 2578 sq. ft., most recent use—hdqts. bldg., off-site use only

Suitable/Available Properties

Building

Georgia

Bldgs. 5974-5978

Fort Benning

Ft. Benning Co: Muscogee GA 31905

Landholding Agency: Army

Property Number: 21199930135

Status: Unutilized

Comments: 400 sq. ft., most recent use—storage, off-site use only

Bldg. 5993

Fort Benning

Ft. Benning Co: Muscogee GA 31905

Landholding Agency: Army

Property Number: 21199930136

Status: Unutilized

Comments: 960 sq. ft., most recent use—storage, off-site use only

Bldg. 5994

Fort Benning

Ft. Benning Co: Muscogee GA 31905

Landholding Agency: Army

Property Number: 21199930137

Status: Unutilized

Comments: 2016 sq. ft., most recent use—storage, off-site use only

Bldg. T-1003

Fort Stewart

Hinesville Co: Liberty GA 31514

Landholding Agency: Army

Property Number: 21200030085

Status: Excess

Comments: 9267 sq. ft., poor condition, most recent use—admin., off-site use only

Suitable/Available Properties

Building

Georgia

Bldg. T0130

Fort Stewart

Hinesville Co: Liberty GA 31314-5136

Landholding Agency: Army

Property Number: 21200230041

Status: Excess

Comments: 10,813 sq. ft., off-site use only

Bldg. T0157

Fort Stewart

Hinesville Co: Liberty GA 31314-5136

Landholding Agency: Army

Property Number: 21200230042

Status: Excess

Comments: 1440 sq. ft., off-site use only

Bldgs. T291, T292

Fort Stewart

Hinesville Co: Liberty GA 31314-5136

Landholding Agency: Army

Property Number: 21200230044

Status: Excess

Comments: 5220 sq. ft. each, off-site use only

Bldg. T0295

Fort Stewart

Hinesville Co: Liberty GA 31314-5136

Landholding Agency: Army

Property Number: 21200230045

Status: Excess

Comments: 5220 sq. ft., off-site use only

Suitable/Available Properties

Building

Georgia

Bldg. 4476

Fort Benning

Ft. Benning Co: Chattachoochee GA 31905

Landholding Agency: Army

Property Number: 21200420034

Status: Excess

Comments: 3148 sq. ft., most recent use—veh. maint. shop, off-site use only

Bldg. 9029

Fort Benning

Ft. Benning Co: Chattachoochee GA 31905

Landholding Agency: Army

Property Number: 21200420050

Status: Excess

Comments: 7356 sq. ft., most recent use—heat plant bldg., off-site use only

Bldg. 11370

Fort Benning

Ft. Benning Co: Chattachoochee GA 31905

Landholding Agency: Army

Property Number: 21200420051

Status: Excess

Comments: 9602 sq. ft., most recent use—nco/enl bldg., off-site use only

Bldg. T924

Fort Stewart

Ft. Stewart Co: Liberty GA 31314

Landholding Agency: Army

Property Number: 21200420194

Status: Excess

Comments: 9360 sq. ft., most recent use—warehouse, off-site use only

Suitable/Available Properties

Building

Georgia

Bldg. 00924

Fort Stewart

Ft. Stewart Co: Liberty GA 31314

Landholding Agency: Army

Property Number: 21200510065

Status: Excess

Comments: 9360 sq. ft., most recent use—warehouse, off-site use only

Bldg. 9019

Fort Benning

Chattachoochee GA 31905

Landholding Agency: Army

Property Number: 21200520102

Status: Unutilized

Comments: 7243 sq. ft., poor condition, most recent use—BN HQ Bldg., off-site use only

Bldgs. 9198, 9199

Fort Benning

Chattachoochee GA 31905

Landholding Agency: Army

Property Number: 21200520108

Status: Unutilized

Comments: 1008 sq. ft., poor condition, most recent use—admin., off-site use only

Bldg. 08585

Hunter Army Airfield

Savannah Co: Chatham GA 31409

Landholding Agency: Army

Property Number: 21200530078

Status: Excess

Comments: 165 sq. ft., most recent use—plant, off-site use only

Suitable/Available Properties

Building

Georgia

Bldg. 01150

Hunter Army Airfield

Savannah Co: Chatham GA 31409

Landholding Agency: Army

Property Number: 21200610037

Status: Excess

Comments: 137 sq. ft., most recent use—flam mat storage, off-site use only

Bldg. 01151

Hunter Army Airfield

Savannah Co: Chatham GA 31409

Landholding Agency: Army

Property Number: 21200610038

Status: Excess

Comments: 78 sq. ft., most recent use—flam mat storage, off-site use only

Bldg. 01153

Hunter Army Airfield

Savannah Co: Chatham GA 31409

Landholding Agency: Army

Property Number: 21200610039

Status: Excess

Comments: 211 sq. ft., most recent use—flam mat storage, off-site use only

Bldg. 01530

Fort Stewart

Liberty GA 31314

Landholding Agency: Army

Property Number: 21200610048

Status: Excess

Comments: 80 sq. ft., most recent use—scale house, off-site use only

Suitable/Available Properties

Building

Georgia

Bldg. 08032

Fort Stewart

Liberty GA 31314

Landholding Agency: Army

Property Number: 21200610051

Status: Excess

Comments: 2592 sq. ft., needs rehab, most recent use—storage/stable, off-site use only

Bldg. 07783

Fort Stewart

Hinesville GA 31314

Landholding Agency: Army

Property Number: 21200640093

Status: Excess

Comments: 8640 sq. ft., most recent use—maintenance hangar, off-site use only

Bldg. 08061

Fort Stewart

Hinesville GA 31314

Landholding Agency: Army

Property Number: 21200640094

Status: Excess

Comments: 1296 sq. ft., most recent use—weather station, off-site use only

4 Bldgs. 8642, 8643, 8649, 8656

Fort Benning

Ft. Benning GA 31905

Landholding Agency: Army

Property Number: 21200740051

Status: Unutilized

Comments: various sq. ft., most recent use—range support facility, off-site use only

Suitable/Available Properties

Building

Georgia

Bldg. 00100

Hunter Army Airfield

Chatham GA 31409

Landholding Agency: Army

Property Number: 21200740052

Status: Excess

Comments: 10893 sq. ft., most recent use—battalion hdqts., off-site use only

Bldg. 00129

Hunter Army Airfield

Chatham GA 31409

Landholding Agency: Army

Property Number: 21200740053

Status: Excess

Comments: 4815 sq. ft., presence of asbestos, most recent use—religious education facility, off-site use only

Bldg. 00145

Hunter Army Airfield

Chatham GA 31409

Landholding Agency: Army

Property Number: 21200740054

Status: Excess

Comments: 11590 sq. ft., presence of asbestos, most recent use—post chapel, off-site use only

Bldg. 00811

Hunter Army Airfield

Chatham GA 31409

Landholding Agency: Army

Property Number: 21200740055

Status: Excess

Comments: 42853 sq. ft., most recent use—co hq bldg, off-site use only

Suitable/Available Properties

Building

Georgia

Bldg. 00812

Hunter Army Airfield

Chatham GA 31409

Landholding Agency: Army

Property Number: 21200740056

Status: Excess

Comments: 1080 sq. ft., most recent use—power plant, off-site use only

Bldg. 00850

Hunter Army Airfield

Chatham GA 31409

Landholding Agency: Army

Property Number: 21200740057

Status: Excess

Comments: 108,287 sq. ft., presence of asbestos, most recent use—aircraft hangar, off-site use only

Bldg. 00860

Hunter Army Airfield

Chatham GA 31409

Landholding Agency: Army

Property Number: 21200740058

Status: Excess

Comments: 10679 sq. ft., presence of asbestos, most recent use—maint. hangar, off-site use only

Bldg. 01028

Hunter Army Airfield

Chatham GA 31409

Landholding Agency: Army

Property Number: 21200740059

Status: Excess

Comments: 870 sq ft., most recent use—storage, off-site use only

Suitable/Available Properties

Building

Georgia

Bldg. 00955

Fort Stewart

Hinesville GA 31314

Landholding Agency: Army

Property Number: 21200740060

Status: Excess

Comments: 120 sq. ft., most recent use—storage, off-site use only

Bldg. 00957

Fort Stewart

Hinesville GA 31314

Landholding Agency: Army

Property Number: 21200740061

Status: Excess

Comments: 6072 sq. ft., most recent use—recycling facility, off-site use only

Bldg. 00971

Fort Stewart

Hinesville GA 31314

Landholding Agency: Army

Property Number: 21200740062

Status: Excess

Comments: 4000 sq. ft., most recent use—vehicle maint., off-site use only

Bldg. 01015

Fort Stewart

Hinesville GA 31314

Landholding Agency: Army

Property Number: 21200740063

Status: Excess

Comments: 7496 sq. ft., most recent use—storage, off-site use only

Suitable/Available Properties

Building

Georgia

Bldg. 01209

Fort Stewart

Hinesville GA 31314

Landholding Agency: Army

Property Number: 21200740064

Status: Excess

Comments: 4786 sq. ft., presence of asbestos, most recent use—vehicle maint., off-site use only

Bldg. 07335

Fort Stewart

Hinesville GA 31314

Landholding Agency: Army

Property Number: 21200740065

Status: Excess

Comments: 4400 sq. ft., most recent use—chapel, off-site use only

Bldg. 245

Fort Benning

Ft. Benning GA 31905

Landholding Agency: Army

Property Number: 21200740178

Status: Unutilized

Comments: 1102 sq. ft., most recent use—fld ops, off-site use only

Bldg. 2580

Fort Benning

Ft. Benning GA 31905

Landholding Agency: Army

Property Number: 21200740179

Status: Unutilized

Comments: 1943 sq. ft., most recent use—org. str., off-site use only

Suitable/Available Properties

Building

Georgia

Bldg. 2748

Fort Benning

Ft. Benning GA 31905

Landholding Agency: Army

Property Number: 21200740180

Status: Unutilized

Comments: 3990 sq. ft., most recent use—office, off-site use only

Bldg. 3819

Fort Benning

Ft. Benning GA 31905

Landholding Agency: Army

Property Number: 21200740181

Status: Unutilized

Comments: 4241 sq. ft., most recent use—gen. str., off-site use only

Bldg. 3866

Fort Benning

Ft. Benning GA 31905

Landholding Agency: Army

Property Number: 21200740182

Status: Unutilized

Comments: 944 sq. ft., most recent use—office, off-site use only

Bldg. 8682

Fort Benning

Ft. Benning GA 31905

Landholding Agency: Army

Property Number: 21200740183

Status: Unutilized

Comments: 780 sq. ft., most recent use—admin., off-site use only

Suitable/Available Properties

Building

Georgia

Bldg. 10800

Fort Benning

Ft. Benning GA 31905

Landholding Agency: Army

Property Number: 21200740184

Status: Unutilized

Comments: 16,628 sq. ft., off-site use only

Bldgs. 11302, 11303, 11304

Fort Benning

Ft. Benning GA 31905

Landholding Agency: Army

Property Number: 21200740185

Status: Unutilized

Comments: various sq. ft., most recent use—ACS center, off-site use only

Hawaii

P-88

Aliamanu Military Reservation

Honolulu Co: Honolulu HI 96818

Landholding Agency: Army

Property Number: 21199030324

Status: Unutilized

Directions: Approximately 600 feet from Main Gate on Aliamanu Drive.

Comments: 45,216 sq. ft. underground tunnel complex, pres. of asbestos, clean-up required of contamination, use of respirator required by those entering property, use limitations

Suitable/Available Properties

Building

Illinois

Bldg. 54

Rock Island Arsenal

Rock Island Co: Rock Island IL 61299

Landholding Agency: Army

Property Number: 21199620666

Status: Unutilized

Comments: 2000 sq. ft., most recent use—oil storage, needs repair, off-site use only

Bldg. AR112

Sheridan Reserve

Arlington Heights IL 60052-2475

Landholding Agency: Army

Property Number: 21200110081

Status: Unutilized

Comments: 1000 sq. ft., off-site use only

Bldgs. 634, 639

Fort Sheridan

Ft. Sheridan IL 60037

Landholding Agency: Army

Property Number: 21200740186

Status: Unutilized

Comments: 3731/3706 sq. ft., most recent use—classroom/storage, off-site use only

Suitable/Available Properties

Building

Iowa

Bldg. 00691

Iowa Army Ammo Plant

Middletown Co: Des Moines IA 52638

Landholding Agency: Army

Property Number: 21200510073

Status: Unutilized

Comments: 2581 sq. ft. residence, presence of lead paint, possible asbestos

Bldg. 00691

Iowa Army Ammo Plant

Middletown Co: Des Moines IA 52638

Landholding Agency: Army

Property Number: 21200520113

Status: Unutilized

Comments: 2581 sq. ft., presence of asbestos/lead paint, most recent use—residential

Kansas

Bldg. 00393

Fort Leavenworth

Leavenworth KS

Landholding Agency: Army

Property Number: 21200740066

Status: Unutilized

Comments: 63 sq. ft., most recent use—maint. facility, off-site use only

Bldg. 00423

Fort Leavenworth

Leavenworth KS 66027

Landholding Agency: Army

Property Number: 21200740067

Status: Unutilized

Comments: 8200 sq. ft., most recent use—maint. facility, off-site use only

Suitable/Available Properties

Building

Kansas

Bldg. 00426

Fort Leavenworth

Leavenworth KS 66027

Landholding Agency: Army

Property Number: 21200740068

Status: Unutilized

Comments: 480 sq. ft., most recent use—dog kennel, off-site use only

Bldg. 00449

Fort Leavenworth

Leavenworth KS 66027

Landholding Agency: Army

Property Number: 21200740069

Status: Unutilized

Comments: 997 sq. ft., most recent use—access control, off-site use only

Louisiana

Bldg. 8423

Fort Polk

Ft. Polk Co: Vernon Parish LA 71459

Landholding Agency: Army

Property Number: 21199640528

Status: Underutilized

Comments: 4172 sq. ft., most recent use—barracks

Bldg. T7125

Fort Polk

Ft. Polk LA 71459

Landholding Agency: Army

Property Number: 21200540088

Status: Unutilized

Comments: 1875 sq. ft., off-site use only

Suitable/Available Properties

Building

Louisiana

Bldgs. T7163, T8043

Fort Polk

Ft. Polk LA 71459

Landholding Agency: Army

Property Number: 21200540089

Status: Unutilized

Comments: 4073/1923 sq. ft., off-site use only

Maryland

Bldg. 0459B

Aberdeen Proving Ground

Aberdeen Co: Harford MD 21005-5001

Landholding Agency: Army

Property Number: 21200120106

Status: Unutilized

Comments: 225 sq. ft., poor condition, most recent use—equipment bldg., off-site use only

Bldg. 00785

Aberdeen Proving Ground

Aberdeen Co: Harford MD 21005-5001

Landholding Agency: Army

Property Number: 21200120107

Status: Unutilized

Comments: 160 sq. ft., poor condition, most recent use—shelter, off-site use only

Bldg. E5239

Aberdeen Proving Ground

Aberdeen Co: Harford MD 21005-5001

Landholding Agency: Army

Property Number: 21200120113

Status: Unutilized

Comments: 230 sq. ft., most recent use—storage, off-site use only

Suitable/Available Properties

Building

Maryland

Bldg. E5317

Aberdeen Proving Ground

Aberdeen Co: Harford MD 21005-5001

Landholding Agency: Army

Property Number: 21200120114

Status: Unutilized

Comments: 3158 sq. ft., presence of asbestos/lead paint, most recent use—lab, off-site use only

Bldg. E5637

Aberdeen Proving Ground

Aberdeen Co: Harford MD 21005-5001

Landholding Agency: Army

Property Number: 21200120115

Status: Unutilized

Comments: 312 sq. ft., presence of asbestos/lead paint, most recent use—lab, off-site use only

Bldg. 219

Ft. George G. Meade

Ft. Meade Co: Anne Arundel MD 20755

Landholding Agency: Army

Property Number: 21200140078

Status: Unutilized

Comments: 8142 sq. ft., presence of asbestos/lead paint, most recent use—admin., off-site use only

Bldg. 294

Ft. George G. Meade

Ft. Meade Co: Anne Arundel MD 20755

Landholding Agency: Army

Property Number: 21200140081

Status: Unutilized

Comments: 3148 sq. ft., presence of asbestos/lead paint, most recent use—entomology facility, off-site use only

Suitable/Available Properties

Building

Maryland

Bldg. 1007

Ft. George G. Meade

Ft. Meade Co: Anne Arundel MD 20755

Landholding Agency: Army

Property Number: 21200140085

Status: Unutilized

Comments: 3108 sq. ft., presence of asbestos/lead paint, most recent use—storage, off-site use only

Bldg. 2214

Fort George G. Meade

Fort Meade Co: Anne Arundel MD 20755

Landholding Agency: Army

Property Number: 21200230054

Status: Unutilized

Comments: 7740 sq. ft., needs rehab, possible asbestos/lead paint, most recent use—storage, off-site use only

Bldg. 00375

Aberdeen Proving Grounds

Aberdeen Co: Harford MD 21005

Landholding Agency: Army

Property Number: 21200320107

Status: Unutilized

Comments: 64 sq. ft., most recent use—storage, off-site use only

Suitable/Available Properties

Building

Maryland

Bldg. 0385A

Aberdeen Proving Grounds

Aberdeen Co: Harford MD 21005

Landholding Agency: Army

Property Number: 21200320110

Status: Unutilized

Comments: 944 sq. ft., off-site use only

Bldg. 00523

Aberdeen Proving Grounds

Aberdeen Co: Harford MD 21005

Landholding Agency: Army

Property Number: 21200320113

Status: Unutilized

Comments: 3897 sq. ft., most recent use—paint shop, off-site use only

Bldg. 0700B

Aberdeen Proving Grounds

Aberdeen Co: Harford MD 21005

Landholding Agency: Army

Property Number: 21200320121

Status: Unutilized

Comments: 505 sq. ft., off-site use only

Bldg. 01113

Aberdeen Proving Grounds

Aberdeen Co: Harford MD 21005

Landholding Agency: Army

Property Number: 21200320128

Status: Unutilized

Comments: 1012 sq. ft., off-site use only

Suitable/Available Properties

Building

Maryland

Bldgs. 01124, 01132

Aberdeen Proving Grounds

Aberdeen Co: Harford MD 21005

Landholding Agency: Army

Property Number: 21200320129

Status: Unutilized

Comments: 740/2448 sq. ft., most recent use—lab, off-site use only

Bldg. 03558

Aberdeen Proving Grounds

Aberdeen Co: Harford MD 21005

Landholding Agency: Army

Property Number: 21200320133

Status: Unutilized

Comments: 18,000 sq. ft., most recent use—storage, off-site use only

Bldg. 05262

Aberdeen Proving Grounds

Aberdeen Co: Harford MD 21005

Landholding Agency: Army

Property Number: 21200320136

Status: Unutilized

Comments: 864 sq. ft., most recent use—storage, off-site use only

Bldg. 05608

Aberdeen Proving Grounds

Aberdeen Co: Harford MD 21005

Landholding Agency: Army

Property Number: 21200320137

Status: Unutilized

Comments: 1100 sq. ft., most recent use—maint bldg., off-site use only

Suitable/Available Properties

Building

Maryland

Bldg. E5645

Aberdeen Proving Grounds

Aberdeen Co: Harford MD 21005

Landholding Agency: Army

Property Number: 21200320150

Status: Unutilized

Comments: 548 sq. ft., most recent use—storage, off-site use only

Bldg. 00435

Aberdeen Proving Grounds

Aberdeen Co: Harford MD 21005

Landholding Agency: Army

Property Number: 21200330111

Status: Unutilized

Comments: 1191 sq. ft., needs rehab, most recent use—storage, off-site use only

Bldg. 0449A

Aberdeen Proving Grounds

Aberdeen Co: Harford MD 21005

Landholding Agency: Army

Property Number: 21200330112

Status: Unutilized

Comments: 143 sq. ft., needs rehab, most recent use—substation switch bldg., off-site use only

Bldg. 0460

Aberdeen Proving Grounds

Aberdeen Co: Harford MD 21005

Landholding Agency: Army

Property Number: 21200330114

Status: Unutilized

Comments: 1800 sq. ft., needs rehab, most recent use—electrical EQ bldg., off-site use only

Suitable/Available Properties

Building

Maryland

Bldg. 00914

Aberdeen Proving Grounds

Aberdeen Co: Harford MD 21005

Landholding Agency: Army

Property Number: 21200330118

Status: Unutilized

Comments: needs rehab, most recent use—safety shelter, off-site use only

Bldg. 00915

Aberdeen Proving Grounds

Aberdeen Co: Harford MD 21005

Landholding Agency: Army

Property Number: 21200330119

Status: Unutilized

Comments: 247 sq. ft., needs rehab, most recent use—storage, off-site use only

Bldg. 01189

Aberdeen Proving Grounds

Aberdeen Co: Harford MD 21005

Landholding Agency: Army

Property Number: 21200330126

Status: Unutilized

Comments: 800 sq. ft., needs rehab, most recent use—range bldg., off-site use only

Bldg. E1413

Aberdeen Proving Grounds

Aberdeen Co: Harford MD 21005

Landholding Agency: Army

Property Number: 21200330127

Status: Unutilized

Comments: needs rehab, most recent use—observation tower, off-site use only

Suitable/Available Properties

Building

Maryland

Bldg. E3175

Aberdeen Proving Grounds

Aberdeen Co: Harford MD 21005

Landholding Agency: Army

Property Number: 21200330134

Status: Unutilized

Comments: 1296 sq. ft., needs rehab, most recent use—hazard bldg., off-site use only

4 Bldgs.

Aberdeen Proving Grounds

Aberdeen Co: Harford MD 21005

Landholding Agency: Army

Property Number: 21200330135

Status: Unutilized

Directions: E3224, E3228, E3230, E3232, E3234

Comments: sq. ft. varies, needs rehab, most recent use—lab test bldgs., off-site use only

Bldg. E3241

Aberdeen Proving Grounds

Aberdeen Co: Harford MD 21005

Landholding Agency: Army

Property Number: 21200330136

Status: Unutilized

Comments: 592 sq. ft., needs rehab, most recent use—medical res bldg., off-site use only

Suitable/Available Properties

Building

Maryland

Bldg. E3300

Aberdeen Proving Grounds

Aberdeen Co: Harford MD 21005

Landholding Agency: Army

Property Number: 21200330139

Status: Unutilized

Comments: 44,352 sq. ft., needs rehab, most recent use—chemistry lab, off-site use only

Bldg. E3335

Aberdeen Proving Grounds

Aberdeen Co: Harford MD 21005

Landholding Agency: Army

Property Number: 21200330144

Status: Unutilized

Comments: 400 sq. ft., needs rehab, most recent use—storage, off-site use only

Bldgs. E3360, E3362, E3464

Aberdeen Proving Grounds

Aberdeen Co: Harford MD 21005

Landholding Agency: Army

Property Number: 21200330145

Status: Unutilized

Comments: 3588/236 sq. ft., needs rehab, most recent use—storage, off-site use only

Bldg. E3542

Aberdeen Proving Grounds

Aberdeen Co: Harford MD 21005

Landholding Agency: Army

Property Number: 21200330148

Status: Unutilized

Comments: 1146 sq. ft., needs rehab, most recent use—lab test bldg., off-site use only

Suitable/Available Properties

Building

Maryland

Bldg. E4420

Aberdeen Proving Grounds

Aberdeen Co: Harford MD 21005

Landholding Agency: Army

Property Number: 21200330151

Status: Unutilized

Comments: 14,997 sq. ft., needs rehab, most recent use—police bldg., off-site use only

4 Bldgs.

Aberdeen Proving Grounds

Aberdeen Co: Harford MD 21005

Landholding Agency: Army

Property Number: 21200330154

Status: Unutilized

Directions: E5005, E5049, E5050, E5051

Comments: sq. ft. varies, needs rehab, most recent use—storage, off-site use only

Bldg. E5068

Aberdeen Proving Grounds

Aberdeen Co: Harford MD 21005

Landholding Agency: Army

Property Number: 21200330155

Status: Unutilized

Comments: 1200 sq. ft., needs rehab, most recent use—fire station, off-site use only

Suitable/Available Properties

Building

Maryland

Bldgs. 05448, 05449

Aberdeen Proving Grounds

Aberdeen Co: Harford MD 21005

Landholding Agency: Army

Property Number: 21200330161

Status: Unutilized

Comments: 6431 sq. ft., needs rehab, most recent use—enlisted UHP, off-site use only

Bldg. 05450

Aberdeen Proving Grounds

Aberdeen Co: Harford MD 21005

Landholding Agency: Army

Property Number: 21200330162

Status: Unutilized

Comments: 2730 sq. ft., needs rehab, most recent use—admin., off-site use only

Bldgs. 05451, 05455

Aberdeen Proving Grounds

Aberdeen Co: Harford MD 21005

Landholding Agency: Army

Property Number: 21200330163

Status: Unutilized

Comments: 2730/6431 sq. ft., needs rehab, most recent use—storage, off-site use only

Bldg. 05453

Aberdeen Proving Grounds

Aberdeen Co: Harford MD 21005

Landholding Agency: Army

Property Number: 21200330164

Status: Unutilized

Comments: 6431 sq. ft., needs rehab, most recent use—admin., off-site use only

Suitable/Available Properties

Building

Maryland

Bldg. E5609

Aberdeen Proving Grounds

Aberdeen Co: Harford MD 21005

Landholding Agency: Army

Property Number: 21200330167

Status: Unutilized

Comments: 2053 sq. ft., needs rehab, most recent use—storage, off-site use only

Bldg. E5611

Aberdeen Proving Grounds

Aberdeen Co: Harford MD 21005

Landholding Agency: Army

Property Number: 21200330168

Status: Unutilized

Comments: 11,242 sq. ft., needs rehab, most recent use—hazard bldg., off-site use only

Bldg. E5634

Aberdeen Proving Grounds

Aberdeen Co: Harford MD 21005

Landholding Agency: Army

Property Number: 21200330169

Status: Unutilized

Comments: 200 sq. ft., needs rehab, most recent use—flammable storage, off-site use only

Bldg. E5654

Aberdeen Proving Grounds

Aberdeen Co: Harford MD 21005

Landholding Agency: Army

Property Number: 21200330171

Status: Unutilized

Comments: 21,532 sq. ft., needs rehab, most recent use—storage, off-site use only

Suitable/Available Properties

Building

Maryland

Bldg. E5942

Aberdeen Proving Grounds

Aberdeen Co: Harford MD 21005

Landholding Agency: Army

Property Number: 21200330176

Status: Unutilized

Comments: 2147 sq. ft., needs rehab, most recent use—igloo storage, off-site use only

Bldgs. E5952, E5953

Aberdeen Proving Grounds

Aberdeen Co: Harford MD 21005

Landholding Agency: Army

Property Number: 21200330177

Status: Unutilized

Comments: 100/24 sq. ft., needs rehab, most recent use—compressed air bldg., off-site use only

Bldgs. E7401, E7402

Aberdeen Proving Grounds

Aberdeen Co: Harford MD 21005

Landholding Agency: Army

Property Number: 21200330178

Status: Unutilized

Comments: 256/440 sq. ft., needs rehab, most recent use—storage, off-site use only

Bldg. E7407, E7408

Aberdeen Proving Grounds

Aberdeen Co: Harford MD 21005

Landholding Agency: Army

Property Number: 21200330179

Status: Unutilized

Comments: 1078/762 sq. ft., needs rehab, most recent use—decon facility, off-site use only

Suitable/Available Properties

Building

Maryland

Bldg. 3070A

Aberdeen Proving Ground

Harford MD 21005

Landholding Agency: Army

Property Number: 21200420055

Status: Unutilized

Comments: 2299 sq. ft., most recent use—heat plant, off-site use only

Bldg. E5026

Aberdeen Proving Ground

Harford MD 21005

Landholding Agency: Army

Property Number: 21200420056

Status: Unutilized

Comments: 20,536 sq. ft., most recent use—storage, off-site use only

Bldg. 05261

Aberdeen Proving Ground

Harford MD 21005

Landholding Agency: Army

Property Number: 21200420057

Status: Unutilized

Comments: 10,067 sq. ft., most recent use—maintenance, off-site use only

Bldg. E5876

Aberdeen Proving Grounds

Aberdeen Co: Harford MD 21005

Landholding Agency: Army

Property Number: 21200440073

Status: Unutilized

Comments: 1192 sq. ft., needs rehab, most recent use—storage, off-site use only

Suitable/Available Properties

Building

Maryland

Bldg. 00688

Aberdeen Proving Ground

Aberdeen Co: Harford MD 21005

Landholding Agency: Army

Property Number: 21200530080

Status: Unutilized

Comments: 24,192 sq. ft., most recent use—ammo, off-site use only

Bldg. 04925

Aberdeen Proving Ground

Aberdeen Co: Harford MD 21005

Landholding Agency: Army

Property Number: 21200540091

Status: Unutilized

Comments: 1326 sq. ft., off-site use only

Bldg. 00255

Aberdeen Proving Ground

Harford MD 21005

Landholding Agency: Army

Property Number: 21200720052

Status: Unutilized

Comments: 64 sq. ft., most recent use—storage, off-site use only

Bldg. 00638

Aberdeen Proving Ground

Harford MD 21005

Landholding Agency: Army

Property Number: 21200720053

Status: Unutilized

Comments: 4295 sq. ft., most recent use—storage, off-site use only

Suitable/Available Properties

Building

Maryland

Bldg. 00721

Aberdeen Proving Ground

Harford MD

Landholding Agency: Army

Property Number: 21200720054

Status: Unutilized

Comments: 135 sq. ft., most recent use—storage, off-site use only

Bldgs. 00936, 00937

Aberdeen Proving Ground

Harford MD 21005

Landholding Agency: Army

Property Number: 21200720055

Status: Unutilized

Comments: 2000 sq. ft., most recent use—storage, off-site use only

Bldgs. E1410, E1434

Aberdeen Proving Ground

Harford MD 21005

Landholding Agency: Army

Property Number: 21200720056

Status: Unutilized

Comments: 2276/3106 sq. ft., most recent use—laboratory, off-site use only

Bldg. 03240

Aberdeen Proving Ground

Harford MD 21005

Landholding Agency: Army

Property Number: 21200720057

Status: Unutilized

Comments: 10,049 sq. ft., most recent use—office, off-site use only

Suitable/Available Properties

Building

Maryland

Bldg. E3834

Aberdeen Proving Ground

Harford MD 21005

Landholding Agency: Army

Property Number: 21200720058

Status: Unutilized

Comments: 72 sq. ft., most recent use—office, off-site use only

Bldgs. E4465, E4470, E4480

Aberdeen Proving Ground

Harford MD 21005

Landholding Agency: Army

Property Number: 21200720059

Status: Unutilized

Comments: 17658/16876/17655 sq. ft., most recent use—office, off-site use only

Bldgs. E5137, 05219

Aberdeen Proving Ground

Harford MD 21005

Landholding Agency: Army

Property Number: 21200720060

Status: Unutilized

Comments: 3700/8175 sq. ft., most recent use—office, off-site use only

Bldg. E5236

Aberdeen Proving Ground

Harford MD 21005

Landholding Agency: Army

Property Number: 21200720061

Status: Unutilized

Comments: 10,325 sq. ft., most recent use—storage, off-site use only

Suitable/Available Properties

Building

Maryland

Bldg. E5282

Aberdeen Proving Ground

Harford MD 21005

Landholding Agency: Army

Property Number: 21200720062

Status: Unutilized

Comments: 4820 sq. ft., most recent use—hazard bldg., off-site use only

Bldgs. E5736, E5846, E5926

Aberdeen Proving Ground

Harford MD 21005

Landholding Agency: Army

Property Number: 21200720063

Status: Unutilized

Comments: 1069/4171/11279 sq. ft., most recent use—storage, off-site use only

Bldg. E6890

Aberdeen Proving Ground

Harford MD 21005

Landholding Agency: Army

Property Number: 21200720064

Status: Unutilized

Comments: 1 sq. ft., most recent use—impact area, off-site use only

Suitable/Available Properties

Building

Missouri

Bldg. T1497

Fort Leonard Wood

Ft. Leonard Wood Co: Pulaski MO 65473-5000

Landholding Agency: Army

Property Number: 21199420441

Status: Underutilized

Comments: 4720 sq. ft., 2-story, presence of lead base paint, most recent use—admin/gen. purpose, off-site use only

Bldg. T2139

Fort Leonard Wood

Ft. Leonard Wood Co: Pulaski MO 65473-5000

Landholding Agency: Army

Property Number: 21199420446

Status: Underutilized

Comments: 3663 sq. ft., 1-story, presence of lead base paint, most recent use—admin/gen. purpose, off-site use only

Bldg. T2385

Fort Leonard Wood

Ft. Leonard Wood Co: Pulaski MO 65473

Landholding Agency: Army

Property Number: 21199510115

Status: Excess

Comments: 3158 sq. ft., 1-story, wood frame, most recent use—admin., to be vacated8/95, off-site use only

Suitable/Available Properties

Building

Missouri

Bldg. 2167

Fort Leonard Wood

Ft. Leonard Wood Co: Pulaski MO 65473-5000

Landholding Agency: Army

Property Number: 21199820179

Status: Unutilized

Comments: 1296 sq. ft., presence of asbestos/lead paint, most recent use—admin., off-site use only

Bldgs. 2192, 2196, 2198

Fort Leonard Wood

Ft. Leonard Wood Co: Pulaski MO 65473-5000

Landholding Agency: Army

Property Number: 21199820183

Status: Unutilized

Comments: 4720 sq. ft., presence of asbestos/lead paint, most recent use—barracks, off-site use only

12 Bldgs

Fort Leonard Wood

Ft. Leonard Wood Co: Pulaski MO 65743-8944

Landholding Agency: Army

Property Number: 21200410110

Status: Unutilized

Directions: 07036, 07050, 07054, 07102, 07400, 07401, 08245, 08249, 08251, 08255, 08257, 08261.

Comments: 7152 sq. ft. 6 plex housing quarters, potential contaminants, off-site use only

Suitable/Available Properties

Building

Missouri

6 Bldg

Fort Leonard Wood

Ft. Leonard Wood Co: Pulaski MO 65743-8944

Landholding Agency: Army

Property Number: 21200410111

Status: Unutilized

Directions: 07044, 07106, 07107, 08260, 08281, 08300

Comments: 9520 sq ft., 8 plex housing quarters, potential contaminants, off-site use only

15 Bldgs

Fort Leonard Wood

Ft. Leonard Wood Co: Pulaski MO 65743-8944

Landholding Agency: Army

Property Number: 21200410112

Status: Unutilized

Directions: 08242, 08243, 08246-08248, 08250, 08252-08254, 08256, 08258-08259, 08262-08263, 08265

Comments: 4784 sq ft., 4 plex housing quarters, potential contaminants, off-site use only

Bldgs 08283, 08285

Fort Leonard Wood

Ft. Leonard Wood Co: Pulaski MO 65743-8944

Landholding Agency: Army

Property Number: 21200410113

Status: Unutilized

Comments: 2240 sq ft, 2 plex housing quarters, potential contaminants, off-site use only

Suitable/Available Properties

Building

Missouri

15 Bldgs

Fort Leonard Wood

Ft. Leonard Wood Co: Pulaski MO 65743-0827

Landholding Agency: Army

Property Number: 21200410114

Status: Unutilized

Directions: 08267, 08269, 08271, 08273, 08275, 08277, 08279, 08290, 08296, 08301

Comments: 4784 sq ft., 4 plex housing quarters, potential contaminants, off-site use only

Bldg 09432

Fort Leonard Wood

Ft. Leonard Wood Co: Pulaski MO 65743-8944

Landholding Agency: Army

Property Number: 21200410115

Status: Unutilized

Comments: 8724 sq ft., 6-plex housing quarters, potential contaminants, off-site use only

Bldgs. 5006 and 5013

Fort Leonard Wood

Ft. Leonard Wood Co: Pulaski MO 65743-8944

Landholding Agency: Army

Property Number: 21200430064

Status: Unutilized

Comments: 192 sq. ft., needs repair, most recent use—generator bldg., off-site use only

Suitable/Available Properties

Building

Missouri

Bldgs. 13210, 13710

Fort Leonard Wood

Ft. Leonard Wood Co: Pulaski MO 65743-8944

Landholding Agency: Army

Property Number: 21200430065

Status: Unutilized

Comments: 144 sq. ft. each, needs repair, most recent use—communication, off-site use only

Montana

Bldg. 00405

Fort Harrison

Ft. Harrison Co: Lewis/Clark MT 59636

Landholding Agency: Army

Property Number: 21200130099

Status: Unutilized

Comments: 3467 sq. ft., most recent use—storage, security limitations.

Bldg. T0066

Fort Harrison

Ft. Harrison Co: Lewis/Clark MT 59636

Landholding Agency: Army

Property Number: 21200130100

Status: Unutilized

Comments: 528 sq. ft., needs rehab, presence of asbestos, security limitations.

Bldg. 00001

Sheridan Hall USARC

Helena MT 59601

Landholding Agency: Army

Property Number: 21200540093

Status: Unutilized

Comments: 19,321 sq. ft., most recent use—Reserve Center

Suitable/Available Properties

Building

Montana

Bldg. 00003

Sheridan Hall USARC

Helena MT 59601

Landholding Agency: Army

Property Number: 21200540094

Status: Unutilized

Comments: 1950 sq. ft., most recent use—maintenance/storage

New Jersey

Bldg. 732

Armament R Engineering Center

Picatinny Arsenal Co: Morris NJ 07806-5000

Landholding Agency: Army

Property Number: 21199740315

Status: Unutilized

Comments: 9077 sq. ft., needs rehab, most recent use—storage, off-site use only

Bldg. 816C

Armament R, D, Center

Picatinny Arsenal Co: Morris NJ 07806-5000

Landholding Agency: Army

Property Number: 21200130103

Status: Unutilized

Comments: 144 sq. ft., most recent use—storage, off-site use only

Suitable/Available Properties

Building

New Mexico

Bldg. 34198

White Sands Missile Range

Dona Ana NM 88002

Landholding Agency: Army

Property Number: 21200230062

Status: Excess

Comments: 107 sq. ft., most recent use—security, off-site use only

New York

Bldg. 1227

U.S. Military Academy

Highlands Co: Orange NY 10996-1592

Landholding Agency: Army

Property Number: 21200440074

Status: Unutilized

Comments: 3800 sq. ft., needs repair, possible asbestos/lead paint, most recent use—maintenance, off-site use only

Bldg. 2218

Stewart Newburg USARC

New Windsor Co: Orange NY 12553-9000

Landholding Agency: Army

Property Number: 21200510067

Status: Unutilized

Comments: 32,000 sq. ft., poor condition, requires major repairs, most recent use—storage/services

Suitable/Available Properties

Building

New York

7 Bldgs.

Stewart Newburg USARC

New Windsor Co: Orange NY 12553-9000

Landholding Agency: Army

Property Number: 21200510068

Status: Unutilized

Directions: 2122, 2124, 2126, 2128, 2106, 2108, 2104

Comments: sq. ft. varies, poor condition, needs major repairs, most recent use—storage/services

Oklahoma

Bldg. T-838, Fort Sill

838 Macomb Road

Lawton Co: Comanche OK 73503-5100

Landholding Agency: Army

Property Number: 21199220609

Status: Unutilized

Comments: 151 sq. ft., wood frame, 1 story, off-site removal only, most recent use—vet facility (quarantine stable)

Bldg. T-954, Fort Sill

954 Quinette Road

Lawton Co: Comanche OK 73503-5100

Landholding Agency: Army

Property Number: 21199240659

Status: Unutilized

Comments: 3571 sq. ft., 1 story wood frame, needs rehab, off-site use only, most recent use—motor repair shop

Suitable/Available Properties

Building

Oklahoma

Bldg. T-3325, Fort Sill

3325 Naylor Road

Lawton Co: Comanche OK 73503-5100

Landholding Agency: Army

Property Number: 21199240681

Status: Unutilized

Comments: 8832 sq. ft., 1 story wood frame, needs rehab, off-site use only, most recent use—warehouse

Bldg. T-4226

Fort Sill

Lawton Co: Comanche OK 73503

Landholding Agency: Army

Property Number: 21199440384

Status: Unutilized

Comments: 114 sq. ft., 1-story wood frame, possible asbestos and lead paint, most recent use—storage, off-site use only

Bldg. P-1015, Fort Sill

Lawton Co: Comanche OK 73501-5100

Landholding Agency: Army

Property Number: 21199520197

Status: Unutilized

Comments: 15402 sq. ft., 1-story, most recent use—storage, off-site use only

Bldg. P-366, Fort Sill

Lawton Co: Comanche OK 73503

Landholding Agency: Army

Property Number: 21199610740

Status: Unutilized

Comments: 482 sq. ft., possible asbestos, most recent use—storage, off-site use only

Suitable/Available Properties

Building

Oklahoma

Building T-2952

Fort Sill

Lawton Co: Comanche OK 73503-5100

Landholding Agency: Army

Property Number: 21199710047

Status: Unutilized

Comments: 4,327 sq. ft., possible asbestos and leadpaint, most recent use—motor repair shop, off-site use only

Building P-5042

Fort Sill

Lawton Co: Comanche OK 73503-5100

Landholding Agency: Army

Property Number: 21199710066

Status: Unutilized

Comments: 119 sq. ft., possible asbestos and leadpaint, most recent use—heatplant, off-site use only

4 Buildings

Fort Sill

Lawton Co: Comanche OK 73503-5100

Landholding Agency: Army

Property Number: 21199710086

Status: Unutilized

Directions: T-6465, T-6466, T-6467, T-6468

Comments: various sq. ft., possible asbestos and leadpaint, most recent use—range support, off-site use only

Suitable/Available Properties

Building

Oklahoma

Bldg. T-810

Fort Sill

Lawton Co: Comanche OK 73503-5100

Landholding Agency: Army

Property Number: 21199730350

Status: Unutilized

Comments: 7205 sq. ft., possible asbestos/lead paint, most recent use—hay storage, off-site use only

Bldgs. T-837, T-839

Fort Sill

Lawton Co: Comanche OK 73503-5100

Landholding Agency: Army

Property Number: 21199730351

Status: Unutilized

Comments: approx. 100 sq. ft. each, possible asbestos/lead paint, most recent use—storage, off-site use only

Bldg. P-934

Fort Sill

Lawton Co: Comanche OK 73503-5100

Landholding Agency: Army

Property Number: 21199730353

Status: Unutilized

Comments: 402 sq. ft., possible asbestos/lead paint, most recent use—storage, off-site use only

Suitable/Available Properties

Building

Oklahoma

Bldgs. T-1468, T-1469

Fort Sill

Lawton Co: Comanche OK 73503-5100

Landholding Agency: Army

Property Number: 21199730357

Status: Unutilized

Comments: 114 sq. ft., possible asbestos/lead paint, most recent use—storage, off-site use only

Bldg. T-1470

Fort Sill

Lawton Co: Comanche OK 73503-5100

Landholding Agency: Army

Property Number: 21199730358

Status: Unutilized

Comments: 3120 sq. ft., possible asbestos/lead paint, most recent use—storage, off-site use only

Bldgs. T-1954, T-2022

Fort Sill

Lawton Co: Comanche OK 73503-5100

Landholding Agency: Army

Property Number: 21199730362

Status: Unutilized

Comments: approx. 100 sq. ft. each, possible asbestos/lead paint, most recent use—storage, off-site use only

Bldg. T-2184

Fort Sill

Lawton Co: Comanche OK 73503-5100

Landholding Agency: Army

Property Number: 21199730364

Status: Unutilized

Comments: 454 sq. ft., possible asbestos/lead paint, most recent use—storage, off-site use only

Suitable/Available Properties

Building

Oklahoma

Bldgs. T-2186, T-2188, T-2189

Fort Sill

Lawton Co: Comanche OK 73503-5100

Landholding Agency: Army

Property Number: 21199730366

Status: Unutilized

Comments: 1656-3583 sq. ft., possible asbestos/lead paint, most recent use—vehicle maint. shop, off-site use only

Bldg. T-2187

Fort Sill

Lawton Co: Comanche OK 73503-5100

Landholding Agency: Army

Property Number: 21199730367

Status: Unutilized

Comments: 1673 sq. ft., possible asbestos/lead paint, most recent use—storage, off-site use only

Bldgs. T-2291 thru T-2296

Fort Sill

Lawton Co: Comanche OK 73503-5100

Landholding Agency: Army

Property Number: 21199730372

Status: Unutilized

Comments: 400 sq. ft. each, possible asbestos/lead paint, most recent use—storage, off-site use only

Suitable/Available Properties

Building

Oklahoma

Bldgs. T-3001, T-3006

Fort Sill

Lawton Co: Comanche OK 73503-5100

Landholding Agency: Army

Property Number: 21199730383

Status: Unutilized

Comments: approx. 9300 sq. ft., possible asbestos/lead paint, most recent use—storage, off-site use only

Bldg. T-3314

Fort Sill

Lawton Co: Comanche OK 73503-5100

Landholding Agency: Army

Property Number: 21199730385

Status: Unutilized

Comments: 229 sq. ft., possible asbestos/lead paint, most recent use—office, off-site use only

Bldg. T-5041

Fort Sill

Lawton Co: Comanche OK 73503-5100

Landholding Agency: Army

Property Number: 21199730409

Status: Unutilized

Comments: 763 sq. ft., possible asbestos/lead paint, most recent use—storage, off-site use only

Bldg. T-5420

Fort Sill

Lawton Co: Comanche OK 73503-5100

Landholding Agency: Army

Property Number: 21199730414

Status: Unutilized

Comments: 189 sq. ft., possible asbestos/lead paint, most recent use—fuel storage, off-site use only

Suitable/Available Properties

Building

Oklahoma

Bldg. T-7775

Fort Sill

Lawton Co: Comanche OK 73503-5100

Landholding Agency: Army

Property Number: 21199730419

Status: Unutilized

Comments: 1452 sq. ft., possible asbestos/lead paint, most recent use—private club, off-site use only

4 Bldgs.

Fort Sill

P-617, P-1114, P-1386, P-1608

Lawton Co: Comanche OK 73503-5100

Landholding Agency: Army

Property Number: 21199910133

Status: Unutilized

Comments: 106 sq. ft., possible asbestos/lead paint, most recent use—utility plant, off-site use only

Bldg. P-746

Fort Sill

Lawton Co: Comanche OK 73503-5100

Landholding Agency: Army

Property Number: 21199910135

Status: Unutilized

Comments: 6299 sq. ft., possible asbestos/lead paint, most recent use—admin., off-site use only

Suitable/Available Properties

Building

Oklahoma

Bldgs. P-2581, P-2773

Fort Sill

Lawton Co: Comanche OK 73503-5100

Landholding Agency: Army

Property Number: 21199910140

Status: Unutilized

Comments: 4093 and 4129 sq. ft., possible asbestos/lead paint, most recent use—office, off-site use only

Bldg. P-2582

Fort Sill

Lawton Co: Comanche OK 73503-5100

Landholding Agency: Army

Property Number: 21199910141

Status: Unutilized

Comments: 3672 sq. ft., possible asbestos/lead paint, most recent use—admin., off-site use only

Bldgs. P-2912, P-2921, P-2944

Fort Sill

Lawton Co: Comanche OK 73503-5100

Landholding Agency: Army

Property Number: 21199910144

Status: Unutilized

Comments: 1390 sq. ft., possible asbestos/lead paint, most recent use—office, off-site use only

Bldg. P-2914

Fort Sill

Lawton Co: Comanche OK 73503-5100

Landholding Agency: Army

Property Number: 21199910146

Status: Unutilized

Comments: 1236 sq. ft., possible asbestos/lead paint, most recent use—storage, off-site use only

Suitable/Available Properties

Building

Oklahoma

Bldg. P-5101

Fort Sill

Lawton Co: Comanche OK 73503-5100

Landholding Agency: Army

Property Number: 21199910153

Status: Unutilized

Comments: 82 sq. ft., possible asbestos/lead paint, most recent use—gas station, off-site use only

Bldg. S-6430

Fort Sill

Lawton Co: Comanche OK 73503-5100

Landholding Agency: Army

Property Number: 21199910156

Status: Unutilized

Comments: 2080 sq. ft., possible asbestos/lead paint, most recent use—range support, off-site use only

Bldg. T-6461

Fort Sill

Lawton Co: Comanche OK 73503-5100

Landholding Agency: Army

Property Number: 21199910157

Status: Unutilized

Comments: 200 sq. ft., possible asbestos/lead paint, most recent use—range support, off-site use only

Suitable/Available Properties

Building

Oklahoma

Bldg. T-6462

Fort Sill

Lawton Co: Comanche OK 73503-5100

Landholding Agency: Army

Property Number: 21199910158

Status: Unutilized

Comments: 64 sq. ft., possible asbestos/lead paint, most recent use—control tower, off-site use only

Bldg. P-7230

Fort Sill

Lawton Co: Comanche OK 73503-5100

Landholding Agency: Army

Property Number: 21199910159

Status: Unutilized

Comments: 160 sq. ft., possible asbestos/lead paint, most recent use—transmitter bldg., off-site use only

Bldg. S-4023

Fort Sill

Lawton Co: Comanche OK 73503-5100

Landholding Agency: Army

Property Number: 21200010128

Status: Unutilized

Comments: 1200 sq. ft., possible asbestos/lead paint, most recent use—storage, off-site use only

Bldg. P-747

Fort Sill

Lawton Co: Comanche OK 73503-5100

Landholding Agency: Army

Property Number: 21200120120

Status: Unutilized

Comments: 9232 sq. ft., possible asbestos/lead paint, most recent use—lab, off-site use only

Suitable/Available Properties

Building

Oklahoma

Bldg. P-842

Fort Sill

Lawton Co: Comanche OK 73503-5100

Landholding Agency: Army

Property Number: 21200120123

Status: Unutilized

Comments: 192 sq. ft., possible asbestos/lead paint, most recent use—storage, off-site use only

Bldg. T-911

Fort Sill

Lawton Co: Comanche OK 73503-5100

Landholding Agency: Army

Property Number: 21200120124

Status: Unutilized

Comments: 3080 sq. ft., possible asbestos/lead paint, most recent use—office, off-site use only

Bldg. P-1672

Fort Sill

Lawton Co: Comanche OK 73503-5100

Landholding Agency: Army

Property Number: 21200120126

Status: Unutilized

Comments: 1056 sq. ft., possible asbestos/lead paint, most recent use—storage, off-site use only

Bldg. S-2362

Fort Sill

Lawton Co: Comanche OK 73503-5100

Landholding Agency: Army

Property Number: 21200120127

Status: Unutilized

Comments: 64 sq. ft., possible asbestos/lead paint, most recent use—gatehouse, off-site use only

Suitable/Available Properties

Building

Oklahoma

Bldg. P-2589

Fort Sill

Lawton Co: Comanche OK 73503-5100

Landholding Agency: Army

Property Number: 21200120129

Status: Unutilized

Comments: 3672 sq. ft., possible asbestos/lead paint, most recent use—storage, off-site use only

Bldgs. 01276, 01278

Fort Sill

Lawton Co: Comanche OK 73501-5100

Landholding Agency: Army

Property Number: 21200520119

Status: Unutilized

Comments: 1533 sq. ft., most recent use—maintenance, off-site use only

Bldgs. 00937, 00957

Fort Sill

Lawton OK 73501

Landholding Agency: Army

Property Number: 21200710104

Status: Unutilized

Comments: 1558 sq. ft., most recent use—storage shed, off-site use only

Bldg. 01514

Fort Sill

Lawton OK 73501

Landholding Agency: Army

Property Number: 21200710105

Status: Unutilized

Comments: 1602 sq. ft., most recent use—storage, off-site use only

Suitable/Available Properties

Building

South Carolina

Bldg. 3605

Fort Jackson

Ft. Jackson Co: Richland SC 29207

Landholding Agency: Army

Property Number: 21199820188

Status: Unutilized

Comments: 711 sq. ft., needs repair, most recent use—storage

Bldg. 1765

Fort Jackson

Ft. Jackson Co: Richland SC 29207

Landholding Agency: Army

Property Number: 21200030109

Status: Unutilized

Comments: 1700 sq. ft., need repairs, presence of asbestos/lead paint, most recent use—training bldg., off-site use only

South Dakota

Bldg. 03001

Jonas H. Lien AFRC

Sioux Falls SD 57104

Landholding Agency: Army

Property Number: 21200740187

Status: Unutilized

Comments: 33282 sq. ft., most recent use—training center

Suitable/Available Properties

Building

South Dakota

Bldg. 03003

Jonas H. Lien AFRC

Sioux Falls SD 57104

Landholding Agency: Army

Property Number: 21200740188

Status: Unutilized

Comments: 4675 sq. ft., most recent use—vehicle maint. shop

Texas

Bldg. 7137, Fort Bliss

El Paso Co: El Paso TX 79916

Landholding Agency: Army

Property Number: 21199640564

Status: Unutilized

Comments: 35,736 sq. ft., 3-story, most recent use—housing, off-site use only

Bldg. 92043

Fort Hood

Ft. Hood Co: Bell TX 76544

Landholding Agency: Army

Property Number: 21200020206

Status: Unutilized

Comments: 450 sq. ft., most recent use—storage, off-site use only

Bldg. 92044

Fort Hood

Ft. Hood Co: Bell TX 76544

Landholding Agency: Army

Property Number: 21200020207

Status: Unutilized

Comments: 1920 sq. ft., most recent use—admin., off-site use only

Suitable/Available Properties

Building

Texas

Bldg. 92045

Fort Hood

Ft. Hood Co: Bell TX 76544

Landholding Agency: Army

Property Number: 21200020208

Status: Unutilized

Comments: 2108 sq. ft., most recent use—maint., off-site use only

Bldg. 56305

Fort Hood

Ft. Hood Co: Bell TX 76544

Landholding Agency: Army

Property Number: 21200220143

Status: Unutilized

Comments: 2160 sq. ft., most recent use—admin., off-site use only

Bldgs. 56620, 56621

Fort Hood

Ft. Hood Co: Bell TX 76544

Landholding Agency: Army

Property Number: 21200220146

Status: Unutilized

Comments: 1120 sq. ft., most recent use—shower, off-site use only

Bldgs. 56626, 56627

Fort Hood

Ft. Hood Co: Bell TX 76544

Landholding Agency: Army

Property Number: 21200220147

Status: Unutilized

Comments: 1120 sq. ft., most recent use—shower, off-site use only

Suitable/Available Properties

Building

Texas

Bldg. 56628

Fort Hood

Ft. Hood Co: Bell TX 76544

Landholding Agency: Army

Property Number: 21200220148

Status: Unutilized

Comments: 1133 sq. ft., most recent use—shower, off-site use only

Bldgs. 56636, 56637

Fort Hood

Ft. Hood Co: Bell TX 76544

Landholding Agency: Army

Property Number: 21200220150

Status: Unutilized

Comments: 1120 sq. ft., most recent use—shower, off-site use only

Bldg. 56638

Fort Hood

Ft. Hood Co: Bell TX 76544

Landholding Agency: Army

Property Number: 21200220151

Status: Unutilized

Comments: 1133 sq. ft., most recent use—shower, off-site use only

Bldgs. 56703, 56708

Fort Hood

Ft. Hood Co: Bell TX 76544

Landholding Agency: Army

Property Number: 21200220152

Status: Unutilized

Comments: 1306 sq. ft., most recent use—shower, off-site use only

Suitable/Available Properties

Building

Texas

Bldg. 56758

Fort Hood

Ft. Hood Co: Bell TX 76544

Landholding Agency: Army

Property Number: 21200220154

Status: Unutilized

Comments: 1133 sq. ft., most recent use—shower, off-site use only

Bldgs. P6220, P6222

Fort Sam Houston

Camp Bullis

San Antonio Co: Bexar TX

Landholding Agency: Army

Property Number: 21200330197

Status: Unutilized

Comments: 384 sq. ft., most recent use—carport/storage, off-site use only

Bldgs. P6224, P6226

Fort Sam Houston

Camp Bullis

San Antonio Co: Bexar TX

Landholding Agency: Army

Property Number: 21200330198

Status: Unutilized

Comments: 384 sq. ft., most recent use—carport/storage, off-site use only

Suitable/Available Properties

Building

Texas

Bldg. 90036

Fort Hood

Ft. Hood Co: Bell TX 76544

Landholding Agency: Army

Property Number: 21200640098

Status: Excess

Comments: 13,124 sq. ft., presence of asbestos, most recent use—admin., off-site use only

Bldg. 92039

Fort Hood

Ft. Hood Co: Bell TX 76544

Landholding Agency: Army

Property Number: 21200640101

Status: Excess

Comments: 80 sq. ft., most recent use—storage, off-site use only

Bldgs. 04281, 04283

Fort Hood

Bell TX 76544

Landholding Agency: Army

Property Number: 21200720085

Status: Excess

Comments: 4000/8020 sq. ft., most recent use—storage shed, off-site use only

Bldg. 04284

Fort Hood

Bell TX 76544

Landholding Agency: Army

Property Number: 21200720086

Status: Excess

Comments: 800 sq. ft., presence of asbestos, most recent use—storage shed, off-site use only

Suitable/Available Properties

Building

Texas

Bldg. 04285

Fort Hood

Bell TX 76544

Landholding Agency: Army

Property Number: 21200720087

Status: Excess

Comments: 8000 sq. ft., most recent use—storage shed, off-site use only

Bldg. 04286

Fort Hood

Bell TX 76544

Landholding Agency: Army

Property Number: 21200720088

Status: Excess

Comments: 36,000 sq. ft., presence of asbestos, most recent use—storage shed, off-site use only

Bldg. 04291

Fort Hood

Bell TX 76544

Landholding Agency: Army

Property Number: 21200720089

Status: Excess

Comments: 6400 sq. ft., presence of asbestos, most recent use—storage shed, off-site use only

Bldg. 4410

Fort Hood

Bell TX 76544

Landholding Agency: Army

Property Number: 21200720090

Status: Excess

Comments: 12,956 sq. ft., presence of asbestos, most recent use—simulation center, off-site use only

Suitable/Available Properties

Building

Texas

Bldgs. 10031, 10032, 10033

Fort Hood

Bell TX 76544

Landholding Agency: Army

Property Number: 21200720091

Status: Excess

Comments: 2578/3383 sq. ft., presence of asbestos, most recent use—admin., off-site use only

Bldgs. 56524, 56532

Fort Hood

Bell TX 76544

Landholding Agency: Army

Property Number: 21200720092

Status: Excess

Comments: 600 sq. ft., presence of asbestos, most recent use—dining, off-site use only

Bldg. 56435

Fort Hood

Bell TX 76544

Landholding Agency: Army

Property Number: 21200720093

Status: Excess

Comments: 3441 sq. ft., presence of asbestos, most recent use—barracks, off-site use only

Bldg. 05708

Fort Hood

Bell TX 76544

Landholding Agency: Army

Property Number: 21200720094

Status: Excess

Comments: 1344 sq. ft., most recent use—community center, off-site use only

Suitable/Available Properties

Building

Texas

Bldg. 90001

Fort Hood

Bell TX 76544

Landholding Agency: Army

Property Number: 21200720095

Status: Excess

Comments: 3574 sq. ft., presence of asbestos, most recent use—transmitter bldg., off-site use only

Bldg. 90060

Fort Hood

Bell TX 76544

Landholding Agency: Army

Property Number: 21200720096

Status: Excess

Comments: 96 sq. ft., presence of asbestos, most recent use—lab, off-site use only

Bldgs. 90063, 90064, 90065

Fort Hood

Bell TX 76544

Landholding Agency: Army

Property Number: 21200720097

Status: Excess

Comments: 1519/1798/1800 sq. ft., presence of asbestos, most recent use—lab, off-site use only

Bldg. 90066

Fort Hood

Bell TX 76544

Landholding Agency: Army

Property Number: 21200720098

Status: Excess

Comments: 8107 sq. ft., presence of asbestos, most recent use—equipment bldg., off-site use only

Suitable/Available Properties

Building

Texas

Bldg. 93013

Fort Hood

Bell TX 76544

Landholding Agency: Army

Property Number: 21200720099

Status: Excess

Comments: 800 sq. ft., most recent use—club, off-site use only

Bldg. 04249

Fort Hood

Bell TX 76544

Landholding Agency: Army

Property Number: 21200740080

Status: Excess

Comments: 2741 sq. ft., presence of asbestos, most recent use—admin, off-site use only

Bldg. 06987

Fort Hood

Bell TX 76544

Landholding Agency: Army

Property Number: 21200740090

Status: Excess

Comments: 192 sq. ft., presence of asbestos, most recent use—access control, off-site use only

Suitable/Available Properties

Building

Texas

5 Bldgs.

Fort Hood

Bell TX 76544

Landholding Agency: Army

Property Number: 21200740195

Status: Excess

Directions: 56541, 56546, 56547, 56548, 56638

Comments: 1120/1133 sq. ft., presence of asbestos, most recent use—lavatory, off-site use only

Bldg. 1610

Fort Bliss

El Paso TX 79916

Landholding Agency: Army

Property Number: 21200810059

Status: Excess

Comments: 11056 sq. ft., concrete/stucco, most recent use—gas station/store, off-site use only

Bldg. 1680

Fort Bliss

El Paso TX 79916

Landholding Agency: Army

Property Number: 21200810060

Status: Excess

Comments: 3690 sq. ft., concrete/stucco, most recent use—restaurant, off-site use only

Suitable/Available Properties

Building

Utah

Bldg. 00001

Borgstrom Hall USARC

Ogden UT 84401

Landholding Agency: Army

Property Number: 21200740196

Status: Excess

Comments: 16543 sq. ft., most recent use—training center, off-site use only

Bldg. 00002

Borgstrom Hall USARC

Ogden UT 84401

Landholding Agency: Army

Property Number: 21200740197

Status: Excess

Comments: 3842 sq. ft., most recent use—vehicle maint. shop, off-site use only

Bldg. 00005

Borgstrom Hall USARC

Ogden UT 84401

Landholding Agency: Army

Property Number: 21200740198

Status: Excess

Comments: 96 sq. ft., most recent use—storage, off-site use only

Suitable/Available Properties

Building

Virginia

Bldg. 1559

Fort Eustis

Ft. Eustis VA 23604

Landholding Agency: Army

Property Number: 21200130156

Status: Unutilized

Comments: 2892 sq. ft., most recent use—storage, off-site use only

Fort Story

Ft. Story VA 23459

Landholding Agency: Army

Property Number: 21200720065

Status: Unutilized

Comments: 525 sq. ft., most recent use—power plant, off-site use only

Bldg. 00942

Fort Story

Ft. Story VA 23459

Landholding Agency: Army

Property Number: 21200720066

Status: Unutilized

Comments: 84 sq ft., most recent use—shower, off-site use only

Bldg. 01025

Fort Story

Ft. Story VA 23459

Landholding Agency: Army

Property Number: 21200720070

Status: Unutilized

Comments: 4800 sq. ft., most recent use—admin., off-site use only

Suitable/Available Properties

Building

Virginia

Bldg. 01028

Fort Story

Ft. Story VA 23459

Landholding Agency: Army

Property Number: 21200720071

Status: Unutilized

Comments: 2398 sq. ft., most recent use—admin., off-site use only

Bldg. 01633

Fort Eustis

Ft. Eustis VA 23604

Landholding Agency: Army

Property Number: 21200720076

Status: Unutilized

Comments: 240 sq. ft., most recent use—storage, off-site use only

Bldg. 02786

Fort Eustis

Ft. Eustis VA 23604

Landholding Agency: Army

Property Number: 21200720084

Status: Unutilized

Comments: 1596 sq. ft., most recent use—admin., off-site use only

Suitable/Available Properties

Building

Washington

Bldg. CO909, Fort Lewis

Ft. Lewis Co: Pierce WA 98433-9500

Landholding Agency: Army

Property Number: 21199630205

Status: Unutilized

Comments: 1984 sq. ft., possible asbestos/lead paint, most recent use—admin., off-site use only

Bldg. 1164, Fort Lewis

Ft. Lewis Co: Pierce WA 98433-9500

Landholding Agency: Army

Property Number: 21199630213

Status: Unutilized

Comments: 230 sq. ft., possible asbestos/lead paint, most recent use—storehouse, off-site use only

Bldg. 1307, Fort Lewis

Ft. Lewis Co: Pierce WA 98433-9500

Landholding Agency: Army

Property Number: 21199630216

Status: Unutilized

Comments: 1092 sq. ft., possible asbestos/lead paint, most recent use—storage, off-site use only

Bldg. 1309, Fort Lewis

Ft. Lewis Co: Pierce WA 98433-9500

Landholding Agency: Army

Property Number: 21199630217

Status: Unutilized

Comments: 1092 sq. ft., possible asbestos/lead paint, most recent use—storage, off-site use only

Suitable/Available Properties

Building

Washington

Bldg. 2167, Fort Lewis

Ft. Lewis Co: Pierce WA 98433-9500

Landholding Agency: Army

Property Number: 21199630218

Status: Unutilized

Comments: 288 sq. ft., possible asbestos/lead paint, most recent use—warehouse, off-site use only

Bldg. 4078, Fort Lewis

Ft. Lewis Co: Pierce WA 98433-9500

Landholding Agency: Army

Property Number: 21199630219

Status: Unutilized

Comments: 10200 sq. ft., needs rehab, possible asbestos/lead paint, most recent use—warehouse, off-site use only

Bldg. 9599, Fort Lewis

Ft. Lewis Co: Pierce WA 98433-9500

Landholding Agency: Army

Property Number: 21199630220

Status: Unutilized

Comments: 12366 sq. ft., possible asbestos/lead paint, most recent use—warehouse, off-site use only

Bldg. A1404, Fort Lewis

Ft. Lewis Co: Pierce WA 98433

Landholding Agency: Army

Property Number: 21199640570

Status: Unutilized

Comments: 557 sq. ft., needs rehab, most recent use—storage, off-site use only

Suitable/Available Properties

Building

Washington

Bldg. EO347

Fort Lewis

Ft. Lewis Co: Pierce WA 98433

Landholding Agency: Army

Property Number: 21199710156

Status: Unutilized

Comments: 1800 sq. ft., possible asbestos/lead paint, most recent use—office, off-site use only

Bldg. B1008, Fort Lewis

Ft. Lewis Co: Pierce WA 98433

Landholding Agency: Army

Property Number: 21199720216

Status: Unutilized

Comments: 7387 sq. ft., 2-story, needs rehab, possible asbestos/lead paint, most recent use—medical clinic, off-site use only

Bldgs. CO509, CO709, CO720

Fort Lewis

Ft. Lewis Co: Pierce WA 98433

Landholding Agency: Army

Property Number: 21199810372

Status: Unutilized

Comments: 1984 sq. ft., possible asbestos/lead paint, needs rehab, most recent use—storage, off-site use only

Suitable/Available Properties

Building

Washington

Bldg. 5162

Fort Lewis

Ft. Lewis Co: Pierce WA 98433

Landholding Agency: Army

Property Number: 21199830419

Status: Unutilized

Comments: 2360 sq. ft., needs repair, presence of asbestos/lead paint, most recent use—office, off-site use only

Bldg. 5224

Fort Lewis

Ft. Lewis Co: Pierce WA 98433

Landholding Agency: Army

Property Number: 21199830433

Status: Unutilized

Comments: 2360 sq. ft., needs repair, presence of asbestos/lead paint, most recent use—educ. fac., off-site use only

Bldg. U001B

Fort Lewis

Ft. Lewis Co: Pierce WA 98433

Landholding Agency: Army

Property Number: 21199920237

Status: Excess

Comments: 54 sq. ft., needs repair, presence of asbestos/lead paint, most recent use—control tower, off-site use only

Suitable/Available Properties

Building

Washington

Bldg. U001C

Fort Lewis

Ft. Lewis Co: Pierce WA 98433

Landholding Agency: Army

Property Number: 21199920238

Status: Unutilized

Comments: 960 sq. ft., needs repair, presence of asbestos/lead paint, most recent use—supply, off-site use only

10 Bldgs.

Fort Lewis

Ft. Lewis Co: Pierce WA 98433

Landholding Agency: Army

Property Number: 21199920239

Status: Excess

Directions: U002B, U002C, U005C, U015I, U016E, U019C, U022A, U028B, 0091A, U093C

Comments: 600 sq. ft., needs repair, presence of asbestos/lead paint, most recent use—range house, off-site use only

6 Bldgs.

Fort Lewis

Ft. Lewis Co: Pierce WA 98433

Landholding Agency: Army

Property Number: 21199920240

Status: Unutilized

Directions: U003A, U004B, U006C, U015B, U016B, U019B

Comments: 54 sq. ft., needs repair, presence of asbestos/lead paint, most recent use—control tower, off-site use only

Suitable/Available Properties

Building

Washington

Bldg. U004D

Fort Lewis

Ft. Lewis Co: Pierce WA 98433

Landholding Agency: Army

Property Number: 21199920241

Status: Unutilized

Comments: 960 sq. ft., needs repair, presence of asbestos/lead paint, most recent use—supply, off-site use only

Bldg. U005A

Fort Lewis

Ft. Lewis Co: Pierce WA 98433

Landholding Agency: Army

Property Number: 21199920242

Status: Unutilized

Comments: 360 sq. ft., needs repair, presence of asbestos/lead paint, most recent use—control tower, off-site use only

7 Bldgs.

Fort Lewis

Ft. Lewis Co: Pierce WA 98433

Landholding Agency: Army

Property Number: 21199920245

Status: Excess

Directions: U014A, U022B, U023A, U043B, U059B, U060A, U101A

Comments: needs repair, presence of asbestos/lead paint, most recent use—ofc/tower/support, off-site use only

Suitable/Available Properties

Building

Washington

Bldg. U015J

Fort Lewis

Ft. Lewis Co: Pierce WA 98433

Landholding Agency: Army

Property Number: 21199920246

Status: Excess

Comments: 144 sq. ft., needs repair, presence of asbestos/lead paint, most recent use—tower, off-site use only

Bldg. U018B

Fort Lewis

Ft. Lewis Co: Pierce WA 98433

Landholding Agency: Army

Property Number: 21199920247

Status: Unutilized

Comments: 121 sq. ft., needs repair, presence of asbestos/lead paint, most recent use—range house, off-site use only

Bldg. U018C

Fort Lewis

Ft. Lewis Co: Pierce WA 98433

Landholding Agency: Army

Property Number: 21199920248

Status: Unutilized

Comments: 48 sq. ft., needs repair, presence of asbestos/lead paint, off-site use only

Suitable/Available Properties

Building

Washington

Bldg. U024D

Fort Lewis

Ft. Lewis Co: Pierce WA 98433

Landholding Agency: Army

Property Number: 21199920250

Status: Unutilized

Comments: 120 sq. ft., needs repair, presence of asbestos/lead paint, most recent use—ammo bldg., off-site use only

Bldg. U027A

Fort Lewis

Ft. Lewis Co: Pierce WA

Landholding Agency: Army

Property Number: 21199920251

Status: Excess

Comments: 64 sq. ft., needs repair, presence of asbestos/lead paint, most recent use—tire house, off-site use only

Bldg. U031A

Fort Lewis

Ft. Lewis Co: Pierce WA 98433

Landholding Agency: Army

Property Number: 21199920253

Status: Excess

Comments: 3456 sq. ft., needs repair, presence of asbestos/lead paint, most recent use—line shed, off-site use only

Suitable/Available Properties

Building

Washington

Bldg. U031C

Fort Lewis

Ft. Lewis Co: Pierce WA 98433

Landholding Agency: Army

Property Number: 21199920254

Status: Unutilized

Comments: 32 sq. ft., needs repair, presence of asbestos/lead paint, off-site use only

Bldg. U040D

Fort Lewis

Ft. Lewis Co: Pierce WA 98433

Landholding Agency: Army

Property Number: 21199920255

Status: Excess

Comments: 800 sq. ft., needs repair, presence of asbestos/lead paint, most recent use—range house, off-site use only

Bldgs. U052C, U052H

Fort Lewis

Ft. Lewis Co: Pierce WA 98433

Landholding Agency: Army

Property Number: 21199920256

Status: Excess

Comments: various sq. ft., needs repair, presence of asbestos/lead paint, most recent use—range house, off-site use only

Suitable/Available Properties

Building

Washington

Bldgs. U035A, U035B

Fort Lewis

Ft. Lewis Co: Pierce WA 98433

Landholding Agency: Army

Property Number: 21199920257

Status: Excess

Comments: 192 sq. ft., needs repair, presence of asbestos/lead paint, most recent use—shelter, off-site use only

Bldg. U035C

Fort Lewis

Ft. Lewis Co: Pierce WA 98433

Landholding Agency: Army

Property Number: 21199920258

Status: Excess

Comments: 242 sq. ft., needs repair, presence of asbestos/lead paint, most recent use—range house, off-site use only

Bldg. U039A

Fort Lewis

Ft. Lewis Co: Pierce WA 98433

Landholding Agency: Army

Property Number: 21199920259

Status: Excess

Comments: 36 sq. ft., needs repair, presence of asbestos/lead paint, most recent use—control tower, off-site use only

Suitable/Available Properties

Building

Washington

Bldg. U039B

Fort Lewis

Ft. Lewis Co: Pierce WA 98433

Landholding Agency: Army

Property Number: 21199920260

Status: Excess

Comments: 1600 sq. ft., needs repair, presence of asbestos/lead paint, most recent use—grandstand/bleachers, off-site use only

Bldg. U039C

Fort Lewis

Ft. Lewis Co: Pierce WA 98433

Landholding Agency: Army

Property Number: 21199920261

Status: Excess

Comments: 600 sq. ft., needs repair, presence of asbestos/lead paint, most recent use—support, off-site use only

Bldg. U043A

Fort Lewis

Ft. Lewis Co: Pierce WA 98433

Landholding Agency: Army

Property Number: 21199920262

Status: Excess

Comments: 132 sq. ft., needs repair, presence of asbestos/lead paint, most recent use—range house, off-site use only

Suitable/Available Properties

Building

Washington

Bldg. U052A

Fort Lewis

Ft. Lewis Co: Pierce WA 98433

Landholding Agency: Army

Property Number: 21199920263

Status: Excess

Comments: 69 sq. ft., needs repair, presence of asbestos/lead paint, most recent use—tower, off-site use only

Bldg. U052E

Fort Lewis

Ft. Lewis Co: Pierce WA 98433

Landholding Agency: Army

Property Number: 21199920264

Status: Excess

Comments: 600 sq. ft., needs repair, presence of asbestos/lead paint, most recent use—storage, off-site use only

Bldg. U052G

Fort Lewis

Ft. Lewis Co: Pierce WA 98433

Landholding Agency: Army

Property Number: 21199920265

Status: Excess

Comments: 1600 sq. ft., needs repair, presence of asbestos/lead paint, most recent use—shelter, off-site use only

Suitable/Available Properties

Building

Washington

3 Bldgs.

Fort Lewis

Ft. Lewis Co: Pierce WA 98433

Landholding Agency: Army

Property Number: 21199920266

Status: Excess

Directions: U058A, U103A, U018A

Comments: 36 sq. ft., needs repair, presence of asbestos/lead paint, most recent use—control tower, off-site use only

Bldg. U059A

Fort Lewis

Ft. Lewis Co: Pierce WA 98433

Landholding Agency: Army

Property Number: 21199920267

Status: Excess

Comments: 16 sq. ft., needs repair, presence of asbestos/lead paint, most recent use—tower, off-site use only

Bldg. U093B

Fort Lewis

Ft. Lewis Co: Pierce WA 98433

Landholding Agency: Army

Property Number: 21199920268

Status: Excess

Comments: 680 sq. ft., needs repair, presence of asbestos/lead paint, most recent use—range house, off-site use only

Suitable/Available Properties

Building

Washington

4 Bldgs.

Fort Lewis

Ft. Lewis Co: Pierce WA 98433

Landholding Agency: Army

Property Number: 21199920269

Status: Excess

Directions: U101B, U101C, U507B, U557A

Comments: 400 sq. ft., needs repair, presence of asbestos/lead paint, off-site use only

Bldg. U110B

Fort Lewis

Ft. Lewis Co: Pierce WA 98433

Landholding Agency: Army

Property Number: 21199920272

Status: Excess

Comments: 138 sq. ft., needs repair, presence of asbestos/lead paint, most recent use—support, off-site use only

6 Bldgs.

Fort Lewis

Ft. Lewis Co: Pierce WA 98433

Landholding Agency: Army

Property Number: 21199920273

Status: Excess

Directions: U111A, U015A, U024E, U052F, U109A, U110A

Comments: 1000 sq. ft., needs repair, presence of asbestos/lead paint, most recent use—support/shelter/mess, off-site use only

Suitable/Available Properties

Building

Washington

Bldg. U112A

Fort Lewis

Ft. Lewis Co: Pierce WA 98433

Landholding Agency: Army

Property Number: 21199920274

Status: Excess

Comments: 1600 sq. ft., needs repair, presence of asbestos/lead paint, most recent use—shelter, off-site use only

Bldg. U115A

Fort Lewis

Ft. Lewis Co: Pierce WA 98433

Landholding Agency: Army

Property Number: 21199920275

Status: Excess

Comments: 36 sq. ft., needs repair, presence of asbestos/lead paint, most recent use—tower, off-site use only

Bldg. U507A

Fort Lewis

Ft. Lewis Co: Pierce WA 98433

Landholding Agency: Army

Property Number: 21199920276

Status: Excess

Comments: 400 sq. ft., needs repair, presence of asbestos/lead paint, most recent use—support, off-site use only

Suitable/Available Properties

Building

Washington

Bldg. C0120

Fort Lewis

Ft. Lewis Co: Pierce WA 98433

Landholding Agency: Army

Property Number: 21199920281

Status: Excess

Comments: 384 sq. ft., needs repair, presence of asbestos/lead paint, most recent use—scale house, off-site use only

Bldg. 01205

Fort Lewis

Ft. Lewis Co: Pierce WA 98433

Landholding Agency: Army

Property Number: 21199920290

Status: Excess

Comments: 87 sq. ft., needs repair, presence of asbestos/lead paint, most recent use—storehouse, off-site use only

Bldg. 01259

Fort Lewis

Ft. Lewis Co: Pierce WA 98433

Landholding Agency: Army

Property Number: 21199920291

Status: Excess

Comments: 16 sq. ft., needs repair, presence of asbestos/lead paint, most recent use—storage, off-site use only

Suitable/Available Properties

Building

Washington

Bldg. 01266

Fort Lewis

Ft. Lewis Co: Pierce WA 98433

Landholding Agency: Army

Property Number: 21199920292

Status: Excess

Comments: 45 sq. ft., needs repair, presence of asbestos/lead paint, most recent use—shelter, off-site use only

Bldg. 1445

Fort Lewis

Ft. Lewis Co: Pierce WA 98433

Landholding Agency: Army

Property Number: 21199920294

Status: Excess

Comments: 144 sq. ft., needs repair, presence of asbestos/lead paint, most recent use—generator bldg., off-site use only

Bldgs. 03091, 03099

Fort Lewis

Ft. Lewis Co: Pierce WA 98433

Landholding Agency: Army

Property Number: 21199920296

Status: Excess

Comments: Various sq. ft., needs repair, presence of asbestos/lead paint, most recent use—sentry station, off-site use only

Suitable/Available Properties

Building

Washington

Bldg. 4040

Fort Lewis

Ft. Lewis Co: Pierce WA 98433

Landholding Agency: Army

Property Number: 21199920298

Status: Excess

Comments: 8326 sq. ft., needs repair, presence of asbestos/lead paint, most recent use—shed, off-site use only

Bldgs. 4072, 5104

Fort Lewis

Ft. Lewis Co: Pierce WA 98433

Landholding Agency: Army

Property Number: 21199920299

Status: Excess

Comments: 24/36 sq. ft., needs repair, presence of asbestos/lead paint, off-site use only

Bldg. 4295

Fort Lewis

Ft. Lewis Co: Pierce WA 98433

Landholding Agency: Army

Property Number: 21199920300

Status: Excess

Comments: 48 sq. ft., needs repair, presence of asbestos/lead paint, most recent use—storage, off-site use only

Suitable/Available Properties

Building

Washington

Bldg. 6191

Fort Lewis

Ft. Lewis Co: Pierce WA 98433

Landholding Agency: Army

Property Number: 21199920303

Status: Excess

Comments: 3663 sq. ft., needs repair, presence of asbestos/lead paint, most recent use—exchange branch, off-site use only

Bldgs. 08076, 08080

Fort Lewis

Ft. Lewis Co: Pierce WA 98433

Landholding Agency: Army

Property Number: 21199920304

Status: Excess

Comments: 3660/412 sq .ft., needs repair, presence of asbestos/lead paint, off-site use only

Bldg. 08093

Fort Lewis

Ft. Lewis Co: Pierce WA 98433

Landholding Agency: Army

Property Number: 21199920305

Status: Excess

Comments: 289 sq. ft., needs repair, presence of asbestos/lead paint, most recent use—boat storage, off-site use only

Suitable/Available Properties

Building

Washington

Bldg. 8279

Fort Lewis

Ft. Lewis Co: Pierce WA 98433

Landholding Agency: Army

Property Number: 21199920306

Status: Excess

Comments: 210 sq. ft., needs repair, presence of asbestos/lead paint, most recent use—fuel disp. fac., off-site use only

Bldgs. 8280, 8291

Fort Lewis

Ft. Lewis Co: Pierce WA 98433

Landholding Agency: Army

Property Number: 21199920307

Status: Excess

Comments: 800/464 sq. ft., needs repair, presence of asbestos/lead paint, most recent use—storage, off-site use only

Bldg. 8956

Fort Lewis

Ft. Lewis Co: Pierce WA 98433

Landholding Agency: Army

Property Number: 21199920308

Status: Excess

Comments: 100 sq. ft., needs repair, presence of asbestos/lead paint, most recent use—storage, off-site use only

Suitable/Available Properties

Building

Washington

Bldg. 9530

Fort Lewis

Ft. Lewis Co: Pierce WA 98433

Landholding Agency: Army

Property Number: 21199920309

Status: Excess

Comments: 64 sq. ft., needs repair, presence of asbestos/lead paint, most recent use—sentry station, off-site use only

Bldg. 9574

Fort Lewis

Ft. Lewis Co: Pierce WA 98433

Landholding Agency: Army

Property Number: 21199920310

Status: Excess

Comments: 6005 sq. ft., needs repair, presence of asbestos/lead paint, most recent use—veh. shop., off-site use only

Bldg. 9596

Fort Lewis

Ft. Lewis Co: Pierce WA 98433

Landholding Agency: Army

Property Number: 21199920311

Status: Excess

Comments: 36 sq. ft., needs repair, presence of asbestos/lead paint, most recent use—gas station, off-site use only

Suitable/Available Properties

Building

Wisconsin

Bldg. 05018

Fort McCoy

Monroe WI 54656

Landholding Agency: Army

Property Number: 21200740199

Status: Unutilized

Comments: 192 sq. ft., most recent use—wellhouse, off-site use only

Bldgs. 07012, 07022, 07033

Fort McCoy

Monroe WI 54656

Landholding Agency: Army

Property Number: 21200740200

Status: Unutilized

Comments: 384 sq. ft., most recent use—garage, off-site use only

Land

Maryland

2 acres

Fort Meade

Odenton Rd/Rt 175

Ft. Meade MD 20755

Landholding Agency: Army

Property Number: 21200640095

Status: Unutilized

Comments: Light industrial

Suitable/Available Properties

Land

Maryland

16 acres

Fort Meade

Rt 198/Airport Road

Ft. Meade MD 20755

Landholding Agency: Army

Property Number: 21200640096

Status: Unutilized

Comments: Light industrial

Ohio

Land

Defense Supply Center

Columbus Co: Franklin OH 43216-5000

Landholding Agency: Army

Property Number: 21200340094

Status: Excess

Comments: 11 acres, railroad access

South Carolina

One Acre

Fort Jackson

Columbia Co: Richland SC 29207

Landholding Agency: Army

Property Number: 21200110089

Status: Underutilized

Comments: Approx. 1 acre

Suitable/Available Properties

Land

Texas

1 acre

Fort Sam Houston

San Antonio Co: Bexar TX 78234

Landholding Agency: Army

Property Number: 21200440075

Status: Excess

Comments: 1 acre, grassy area

Suitable/Unavailable Properties

Building

Alabama

Bldg. 01433

Fort Rucker

Ft. Rucker Co: Dale AL 36362

Landholding Agency: Army

Property Number: 21200220098

Status: Excess

Comments: 800 sq. ft., most recent use—office, off-site use only

Bldg. 30105

Fort Rucker

Ft. Rucker Co: Dale AL 36362

Landholding Agency: Army

Property Number: 21200510052

Status: Excess

Comments: 4100 sq. ft., most recent use—admin., off-site use only

Suitable/Unavailable Properties

Building

Alabama

Bldg. 40115

Fort Rucker

Ft. Rucker Co: Dale AL 36362

Landholding Agency: Army

Property Number: 21200510053

Status: Excess

Comments: 34,520 sq. ft., most recent use—storage, off-site use only

Bldg. 25303

Fort Rucker

Dale AL 36362

Landholding Agency: Army

Property Number: 21200520074

Status: Excess

Comments: 800 sq. ft., most recent use—airfield operations, off-site use only

Bldg. 25304

Fort Rucker

Dale AL 36362

Landholding Agency: Army

Property Number: 21200520075

Status: Excess

Comments: 1200 sq. ft., poor condition, most recent use—fire station, off-site use only

Suitable/Unavailable Properties

Building

Arizona

Bldg. 22529

Fort Huachuca

Cochise AZ 85613-7010

Landholding Agency: Army

Property Number: 21200520077

Status: Excess

Comments: 2543 sq. ft., most recent use—storage, off-site use only

Bldg. 22541

Fort Huachuca

Cochise AZ 85613-7010

Landholding Agency: Army

Property Number: 21200520078

Status: Excess

Comments: 1300 sq. ft., most recent use—storage, off-site use only

Bldg. 30020

Fort Huachuca

Cochise AZ 85613-7010

Landholding Agency: Army

Property Number: 21200520079

Status: Excess

Comments: 1305 sq. ft., most recent use—storage, off-site use only

Bldg. 30021

Fort Huachuca

Cochise AZ 85613-7010

Landholding Agency: Army

Property Number: 21200520080

Status: Excess

Comments: 144 sq. ft., most recent use—storage, off-site use only

Suitable/Unavailable Properties

Building

Arizona

Bldg. 22040

Fort Huachuca

Cochise AZ 85613

Landholding Agency: Army

Property Number: 21200540076

Status: Excess

Comments: 1131 sq. ft., presence of asbestos/lead paint, most recent use—storage, off-site use only

Bldg. 22540

Fort Huachuca

Cochise AZ 85613-7010

Landholding Agency: Army

Property Number: 21200620067

Status: Excess

Comments: 958 sq. ft., most recent use—storage, off-site use only

Colorado

Bldg. S6264

Fort Carson

Ft. Carson Co: El Paso CO 80913

Landholding Agency: Army

Property Number: 21200340084

Status: Unutilized

Comments: 19,499 sq. ft., most recent use—office, off-site use only

Suitable/Unavailable Properties

Building

Colorado

Bldg. S6285

Fort Carson

Ft. Carson Co: El Paso CO 80913

Landholding Agency: Army

Property Number: 21200420176

Status: Unutilized

Comments: 19,478 sq. ft., most recent use—admin., off-site use only

Bldg. S6287

Fort Carson

Ft. Carson Co: El Paso CO 80913

Landholding Agency: Army

Property Number: 21200420177

Status: Unutilized

Comments: 10,076 sq. ft., presence of asbestos, most recent use—admin., off-site use only

Bldg. 06225

Fort Carson

El Paso CO 80913-4001

Landholding Agency: Army

Property Number: 21200520084

Status: Unutilized

Comments: 24,263 sq. ft., most recent use—admin., off-site use only

Suitable/Unavailable Properties

Building

Georgia

Bldgs. 00960, 00961, 00963

Fort Benning

Ft. Benning Co: Chattahoochee GA

Landholding Agency: Army

Property Number: 21200330107

Status: Unutilized

Comments: 11,110 sq. ft., most recent use—housing, off-site use only

Bldg. T201

Hunter Army Airfield

Garrison Co: Chatham GA 31409

Landholding Agency: Army

Property Number: 21200420002

Status: Excess

Comments: 1828 sq. ft., most recent use—credit union, off-site use only

Bldg. T234

Hunter Army Airfield

Garrison Co: Chatham GA 31409

Landholding Agency: Army

Property Number: 21200420008

Status: Excess

Comments: 2624 sq. ft., most recent use—admin., off-site use only

Bldg. T702

Hunter Army Airfield

Garrison Co: Chatham GA 31409

Landholding Agency: Army

Property Number: 21200420010

Status: Excess

Comments: 9190 sq. ft., most recent use—storage, off-site use only

Suitable/Unavailable Properties

Building

Georgia

Bldg. T703

Hunter Army Airfield

Garrison Co: Chatham GA 31409

Landholding Agency: Army

Property Number: 21200420011

Status: Excess

Comments: 9190 sq. ft., most recent use—storage, off-site use only

Bldg. T704

Hunter Army Airfield

Garrison Co: Chatham GA 31409

Landholding Agency: Army

Property Number: 21200420012

Status: Excess

Comments: 9190 sq. ft., most recent use—storage, off-site use only

Bldg. P813

Hunter Army Airfield

Garrison Co: Chatham GA 31409

Landholding Agency: Army

Property Number: 21200420013

Status: Excess

Comments: 43,055 sq. ft., most recent use—maint. hanger/Co Hq., off-site use only

Bldgs. S843, S844, S845

Hunter Army Airfield

Garrison Co: Chatham GA 31409

Landholding Agency: Army

Property Number: 21200420014

Status: Excess

Comments: 9383 sq. ft., most recent use—maint hanger, off-site use only

Suitable/Unavailable Properties

Building

Georgia

Bldg. P925

Hunter Army Airfield

Garrison Co: Chatham GA 31409

Landholding Agency: Army

Property Number: 21200420015

Status: Excess

Comments: 27,681 sq. ft., most recent use—fitness center, off-site use only

Bldg. P1277

Hunter Army Airfield

Garrison Co: Chatham GA 31409

Landholding Agency: Army

Property Number: 21200420024

Status: Excess

Comments: 13,981 sq. ft., most recent use—barracks/dining, off-site use only

Bldg. T1412

Hunter Army Airfield

Garrison Co: Chatham GA 31409

Landholding Agency: Army

Property Number: 21200420025

Status: Excess

Comments: 9186 sq. ft., most recent use—warehouse, off-site use only

Bldg. 8658

Hunter Army Airfield

Garrison Co: Chatham GA 31409

Landholding Agency: Army

Property Number: 21200420029

Status: Excess

Comments: 8470 sq. ft., most recent use—storage, off-site use only

Suitable/Unavailable Properties

Building

Georgia

Bldg. 8659

Hunter Army Airfield

Garrison Co: Chatham GA 31409

Landholding Agency: Army

Property Number: 21200420030

Status: Excess

Comments: 8470 sq. ft., most recent use—storage, off-site use only

Bldgs. 8675, 8676

Hunter Army Airfield

Garrison Co: Chatham GA 31409

Landholding Agency: Army

Property Number: 21200420031

Status: Excess

Comments: 4000 sq. ft., most recent use—ship/recv facility, off-site use only

Bldg. 5962-5966

Fort Benning

Ft. Benning Co: Chattachoochee GA 31905

Landholding Agency: Army

Property Number: 21200420035

Status: Excess

Comments: 2421 sq. ft., most recent use—igloo storage, off-site use only

Bldgs. 5967-5971

Fort Benning

Ft. Benning Co: Chattachoochee GA 31905

Landholding Agency: Army

Property Number: 21200420036

Status: Excess

Comments: 1813 sq. ft., most recent use—igloo storage, off-site use only

Suitable/Unavailable Properties

Building

Georgia

Bldgs. 5974-5977

Fort Benning

Ft. Benning Co: Chattachoochee GA 31905

Landholding Agency: Army

Property Number: 21200420037

Status: Excess

Comments: 400 sq. ft., most recent use—igloo storage, off-site use only

Bldg. 5978

Fort Benning

Ft. Benning Co: Chattachoochee GA 31905

Landholding Agency: Army

Property Number: 21200420038

Status: Excess

Comments: 1344 sq. ft., most recent use—igloo storage, off-site use only

Bldg. 5981

Fort Benning

Ft. Benning Co: Chattachoochee GA 31905

Landholding Agency: Army

Property Number: 21200420039

Status: Excess

Comments: 2028 sq. ft., most recent use—ammo storage, off-site use only

Bldgs. 5984-5988

Fort Benning

Ft. Benning Co: Chattachoochee GA 31905

Landholding Agency: Army

Property Number: 21200420040

Status: Excess

Comments: 1816 sq. ft., most recent use—igloo storage, off-site use only

Suitable/Unavailable Properties

Building

Georgia

Bldg. 5993

Fort Benning

Ft. Benning Co: Chattachoochee GA 31905

Landholding Agency: Army

Property Number: 21200420041

Status: Excess

Comments: 960 sq. ft., most recent use—storage, off-site use only

Bldg. 5994

Fort Benning

Ft. Benning Co: Chattachoochee GA 31905

Landholding Agency: Army

Property Number: 21200420042

Status: Excess

Comments: 2016 sq. ft., most recent use—ammo storage, off-site use only

Bldg. 5995

Fort Benning

Ft. Benning Co: Chattachoochee GA 31905

Landholding Agency: Army

Property Number: 21200420043

Status: Excess

Comments: 114 sq. ft., most recent use—storage, off-site use only

Bldg. 9000

Fort Benning

Ft. Benning Co: Chattachoochee GA 31905

Landholding Agency: Army

Property Number: 21200420045

Status: Excess

Comments: 9313 sq. ft., most recent use—headquarters bldg., off-site use only

Suitable/Unavailable Properties

Building

Georgia

Bldgs. 9002, 9005

Fort Benning

Ft. Benning Co: Chattachoochee GA 31905

Landholding Agency: Army

Property Number: 21200420046

Status: Excess

Comments: 3555 sq. ft., most recent use—classroom, off-site use only

Bldg. 9025

Fort Benning

Ft. Benning Co: Chattachoochee GA 31905

Landholding Agency: Army

Property Number: 21200420047

Status: Excess

Comments: 3707 sq. ft., most recent use—headquarters bldg., off-site use only

Bldg. 9026

Fort Benning

Ft. Benning Co: Chattachoochee GA 31905

Landholding Agency: Army

Property Number: 21200420048

Status: Excess

Comments: 3867 sq. ft., most recent use—headquarters bldg., off-site use only

Bldg. T01

Fort Stewart

Ft. Stewart Co: Liberty GA 31314

Landholding Agency: Army

Property Number: 21200420181

Status: Excess

Comments: 11,682 sq. ft., most recent use—admin., off-site use only

Suitable/Unavailable Properties

Building

Georgia

Bldg. T04

Fort Stewart

Ft. Stewart Co: Liberty GA 31314

Landholding Agency: Army

Property Number: 21200420182

Status: Excess

Comments: 8292 sq. ft., most recent use—admin., off-site use only

Bldg. T05

Fort Stewart

Ft. Stewart Co: Liberty GA 31314

Landholding Agency: Army

Property Number: 21200420183

Status: Excess

Comments: 7992 sq. ft., most recent use—admin., off-site use only

Bldg. T06

Fort Stewart

Ft. Stewart Co: Liberty GA 31314

Landholding Agency: Army

Property Number: 21200420184

Status: Excess

Comments: 3305 sq. ft., most recent use—communication center, off-site use only

Bldg. T55

Fort Stewart

Ft. Stewart Co: Liberty GA 31314

Landholding Agency: Army

Property Number: 21200420187

Status: Excess

Comments: 6490 sq. ft., most recent use—admin., off-site use only

Suitable/Unavailable Properties

Building

Georgia

Bldg. T85

Fort Stewart

Ft. Stewart Co: Liberty GA 31314

Landholding Agency: Army

Property Number: 21200420188

Status: Excess

Comments: 3283 sq. ft., most recent use—post chapel, off-site use only

Bldg. T131

Fort Stewart

Ft. Stewart Co: Liberty GA 31314

Landholding Agency: Army

Property Number: 21200420189

Status: Excess

Comments: 4720 sq. ft., most recent use—admin., off-site use only

Bldg. T132

Fort Stewart

Ft. Stewart Co: Liberty GA 31314

Landholding Agency: Army

Property Number: 21200420190

Status: Excess

Comments: 4720 sq. ft., most recent use—admin., off-site use only

Bldg. T157

Fort Stewart

Ft. Stewart Co: Liberty GA 31314

Landholding Agency: Army

Property Number: 21200420191

Status: Excess

Comments: 1440 sq. ft., most recent use—education center, off-site use only

Suitable/Unavailable Properties

Building

Georgia

Bldg. 01002

Fort Stewart

Ft. Stewart Co: Liberty GA 31314

Landholding Agency: Army

Property Number: 21200420197

Status: Excess

Comments: 9267 sq. ft., most recent use—maintenance shop, off-site use only

Bldg. 01003

Fort Stewart

Ft. Stewart Co: Liberty GA 31314

Landholding Agency: Army

Property Number: 21200420198

Status: Excess

Comments: 9267 sq. ft., most recent use—admin, off-site use only

Bldg. 19101

Fort Stewart

Ft. Stewart Co: Liberty GA 31314

Landholding Agency: Army

Property Number: 21200420215

Status: Excess

Comments: 6773 sq. ft., most recent use—simulator bldg., off-site use only

Bldg. 19102

Fort Stewart

Ft. Stewart Co: Liberty GA 31314

Landholding Agency: Army

Property Number: 21200420216

Status: Excess

Comments: 3250 sq. ft., most recent use—simulator bldg., off-site use only

Suitable/Unavailable Properties

Building

Georgia

Bldg. T19111

Fort Stewart

Ft. Stewart Co: Liberty GA 31314

Landholding Agency: Army

Property Number: 21200420217

Status: Excess

Comments: 1440 sq. ft., most recent use—admin., off-site use only

Bldg. 19112

Fort Stewart

Ft. Stewart Co: Liberty GA 31314

Landholding Agency: Army

Property Number: 21200420218

Status: Excess

Comments: 1344 sq. ft., most recent use—storage, off-site use only

Bldg. 19113

Fort Stewart

Ft. Stewart Co: Liberty GA 31314

Landholding Agency: Army

Property Number: 21200420219

Status: Excess

Comments: 1440 sq. ft., most recent use—admin., off-site use only

Bldg. T19201

Fort Stewart

Ft. Stewart Co: Liberty GA 31314

Landholding Agency: Army

Property Number: 21200420220

Status: Excess

Comments: 960 sq. ft., most recent use—physical fitness center, off-site use only

Suitable/Unavailable Properties

Building

Georgia

Bldg. 19202

Fort Stewart

Ft. Stewart Co: Liberty GA 31314

Landholding Agency: Army

Property Number: 21200420221

Status: Excess

Comments: 1210 sq. ft., most recent use—community center, off-site use only

Bldgs. 19204 thru 19207

Fort Stewart

Ft. Stewart Co: Liberty GA 31314

Landholding Agency: Army

Property Number: 21200420222

Status: Excess

Comments: 960 sq. ft., most recent use—admin., off-site use only

Bldgs. 19208 thru 19211

Fort Stewart

Ft. Stewart Co: Liberty GA 31314

Landholding Agency: Army

Property Number: 21200420223

Status: Excess

Comments: 1540 sq. ft., most recent use—general installation bldg., off-site use only

Bldg. 19212

Fort Stewart

Ft. Stewart Co: Liberty GA 31314

Landholding Agency: Army

Property Number: 21200420224

Status: Excess

Comments: 1248 sq. ft., off-site use only

Suitable/Unavailable Properties

Building

Georgia

Bldg. 19213

Fort Stewart

Ft. Stewart Co: Liberty GA 31314

Landholding Agency: Army

Property Number: 21200420225

Status: Excess

Comments: 1540 sq. ft., most recent use—general installation bldg., off-site use only

Bldg. 19214

Fort Stewart

Ft. Stewart Co: Liberty GA 31314

Landholding Agency: Army

Property Number: 21200420226

Status: Excess

Comments: 1796 sq. ft., most recent use—transient UPH, off-site use only

Bldg. 19215

Fort Stewart

Ft. Stewart Co: Liberty GA 31314

Landholding Agency: Army

Property Number: 21200420227

Status: Excess

Comments: 1948 sq. ft., most recent use—transient UPH, off-site use only

Bldg. 19216

Fort Stewart

Ft. Stewart Co: Liberty GA 31314

Landholding Agency: Army

Property Number: 21200420228

Status: Excess

Comments: 1540 sq. ft., most recent use—transient UPH, off-site use only

Suitable/Unavailable Properties

Building

Georgia

Bldg. 19217

Fort Stewart

Ft. Stewart Co: Liberty GA 31314

Landholding Agency: Army

Property Number: 21200420229

Status: Excess

Comments: 120 sq. ft., most recent use—nav aids bldg., off-site use only

Bldg. 19218

Fort Stewart

Ft. Stewart Co: Liberty GA 31314

Landholding Agency: Army

Property Number: 21200420230

Status: Excess

Comments: 2925 sq. ft., most recent use—general installation bldg., off-site use only

Bldgs. 19219, 19220

Fort Stewart

Ft. Stewart Co: Liberty GA 31314

Landholding Agency: Army

Property Number: 21200420231

Status: Excess

Comments: 1200 sq. ft., most recent use—general installation bldg., off-site use only

Bldg. 19223

Fort Stewart

Ft. Stewart Co: Liberty GA 31314

Landholding Agency: Army

Property Number: 21200420232

Status: Excess

Comments: 6433 sq. ft., most recent use—transient UPH, off-site use only

Suitable/Unavailable Properties

Building

Georgia

Bldg. 19225

Fort Stewart

Ft. Stewart Co: Liberty GA 31314

Landholding Agency: Army

Property Number: 21200420233

Status: Excess

Comments: 4936 sq. ft., most recent use—dining facility, off-site use only

Bldg. 19226

Fort Stewart

Ft. Stewart Co: Liberty GA 31314

Landholding Agency: Army

Property Number: 21200420234

Status: Excess

Comments: 136 sq. ft., most recent use—general purpose installation bldg., off-site use only

Bldg. T19228

Fort Stewart

Ft. Stewart Co: Liberty GA 31314

Landholding Agency: Army

Property Number: 21200420235

Status: Excess

Comments: 400 sq. ft., most recent use—admin., off-site use only

Bldg. 19229

Fort Stewart

Ft. Stewart Co: Liberty GA 31314

Landholding Agency: Army

Property Number: 21200420236

Status: Excess

Comments: 640 sq. ft., most recent use—vehicle shed, off-site use only

Suitable/Unavailable Properties

Building

Georgia

Bldg. 19232

Fort Stewart

Ft. Stewart Co: Liberty GA 31314

Landholding Agency: Army

Property Number: 21200420237

Status: Excess

Comments: 96 sq. ft., most recent use—general purpose installation, off-site use only

Bldg. 19233

Fort Stewart

Ft. Stewart Co: Liberty GA 31314

Landholding Agency: Army

Property Number: 21200420238

Status: Excess

Comments: 48 sq. ft., most recent use—fire support, off-site use only

Bldg. 19236

Fort Stewart

Ft. Stewart Co: Liberty GA 31314

Landholding Agency: Army

Property Number: 21200420239

Status: Excess

Comments: 1617 sq. ft., most recent use—transient UPH, off-site use only

Bldg. 19238

Fort Stewart

Ft. Stewart Co: Liberty GA 31314

Landholding Agency: Army

Property Number: 21200420240

Status: Excess

Comments: 738 sq. ft., off-site use only

Suitable/Unavailable Properties

Building

Georgia

Bldg. 01674

Fort Benning

Ft. Benning Co: Chattachoochee GA 31905

Landholding Agency: Army

Property Number: 21200510056

Status: Unutilized

Comments: 5311 sq. ft., needs rehab, most recent use—gen. inst., off-site use only

Bldg. 01675

Fort Benning

Ft. Benning Co: Chattachoochee GA 31905

Landholding Agency: Army

Property Number: 21200510057

Status: Unutilized

Comments: 5475 sq. ft., needs rehab, most recent use—gen. inst., off-site use only

Bldg. 01676

Fort Benning

Ft. Benning Co: Chattachoochee GA 31905

Landholding Agency: Army

Property Number: 21200510058

Status: Unutilized

Comments: 7209 sq. ft., needs rehab, most recent use—gen. inst., off-site use only

Bldg. 01677

Fort Benning

Ft. Benning GA 31905

Landholding Agency: Army

Property Number: 21200510059

Status: Unutilized

Comments: 5311 sq. ft., needs rehab, most recent use—gen. inst., off-site use only

Suitable/Unavailable Properties

Building

Georgia

Bldg. 01678

Fort Benning

Ft. Benning Co: Chattachoochee GA 31905

Landholding Agency: Army

Property Number: 21200510060

Status: Unutilized

Comments: 6488 sq. ft., needs rehab, most recent use—gen. inst., off-site use only

Bldg. 00051

Fort Stewart

Liberty GA 31314

Landholding Agency: Army

Property Number: 21200520087

Status: Excess

Comments: 3196 sq. ft., most recent use—court room, off-site use only

Bldg. 00052

Fort Stewart

Liberty GA 31314

Landholding Agency: Army

Property Number: 21200520088

Status: Excess

Comments: 1250 sq. ft., most recent use—admin., off-site use only

Bldg. 00053

Fort Stewart

Liberty GA 31314

Landholding Agency: Army

Property Number: 21200520089

Status: Excess

Comments: 2844 sq. ft., most recent use—admin., off-site use only

Suitable/Unavailable Properties

Building

Georgia

Bldg. 00054

Fort Stewart

Liberty GA 31314

Landholding Agency: Army

Property Number: 21200520090

Status: Excess

Comments: 4425 sq. ft., most recent use—admin., off-site use only

Bldg. 02023

Fort Benning

Chattahoochee GA 31905

Landholding Agency: Army

Property Number: 21200520093

Status: Unutilized

Comments: 6138 sq. ft., poor condition, most recent use—Fh Sr NCO, off-site use only

Bldg. 2750

Fort Benning

Chattachoochee GA 31905

Landholding Agency: Army

Property Number: 21200520094

Status: Unutilized

Comments: 3707 sq. ft., poor condition, most recent use—health clinic, off-site use only

Bldg. 2819

Fort Benning

Chattachoochee GA 31905

Landholding Agency: Army

Property Number: 21200520095

Status: Unutilized

Comments: 40,442 sq. ft., poor condition, off-site use only

Suitable/Unavailable Properties

Building

Georgia

Bldg. 2843

Fort Benning

Chattachoochee GA 31905

Landholding Agency: Army

Property Number: 21200520096

Status: Unutilized

Comments: 9000 sq. ft., poor condition, most recent use—auto center, off-site use only

Bldg. 9013

Fort Benning

Chattachoochee GA 31905

Landholding Agency: Army

Property Number: 21200520099

Status: Unutilized

Comments: 40303 sq. ft., poor condition, most recent use—enlisted housing, off-site use only

Bldg. 9050

Fort Benning

Chattachoochee GA 31905

Landholding Agency: Army

Property Number: 21200520104

Status: Unutilized

Comments: 9313 sq. ft., poor condition, most recent use—BDE HQ Bldg., off-site use only

Bldg. 09075

Fort Benning

Chattachoochee GA 31905

Landholding Agency: Army

Property Number: 21200520106

Status: Unutilized

Comments: 1500 sq. ft., poor condition, most recent use—BN HQ Bldg., off-site use only

Suitable/Unavailable Properties

Building

Georgia

Bldgs. 10039, 10041

Fort Benning

Muscogee GA 31905

Landholding Agency: Army

Property Number: 21200520110

Status: Unutilized

Comments: 2375 sq. ft., poor condition, most recent use FH JR NCO/ENL, off-site use only

Bldg. 11326

Fort Benning

Muscogee GA 31905

Landholding Agency: Army

Property Number: 21200520112

Status: Unutilized

Comments: 9602 sq. ft., poor condition, most recent use—FH JR NCO/ENL, off-site use only

Bldg. 01243

Hunter Army Airfield

Savannah Co: Chatham GA 31409

Landholding Agency: Army

Property Number: 21200610040

Status: Excess

Comments: 1258 sq. ft., most recent use—ref/ac facility, off-site use only

Bldg. 01244

Hunter Army Airfield

Savannah Co: Chatham GA 31409

Landholding Agency: Army

Property Number: 21200610041

Status: Excess

Comments: 4096 sq. ft., presence of asbestos, most recent use—hdqts. facility, off-site use only

Suitable/Unavailable Properties

Building

Georgia

Bldg. 01318

Hunter Army Airfield

Savannah Co: Chatham GA 31409

Landholding Agency: Army

Property Number: 21200610042

Status: Excess

Comments: 1500 sq. ft., most recent use—storage, off-site use only

Bldg. 00612

Fort Stewart

Liberty GA 31314

Landholding Agency: Army

Property Number: 21200610043

Status: Excess

Comments: 5298 sq. ft., needs rehab, most recent use—health clinic, off-site use only

Bldg. 00614

Fort Stewart

Liberty GA 31314

Landholding Agency: Army

Property Number: 21200610044

Status: Excess

Comments: 10,157 sq. ft., needs rehab, most recent use—brigade hqtrs, off-site use only

Bldg. 00618

Fort Stewart

Liberty GA 31314

Landholding Agency: Army

Property Number: 21200610045

Status: Excess

Comments: 6137 sq. ft., needs rehab, most recent use—brigade hqtrs, off-site use only

Suitable/Unavailable Properties

Building

Georgia

Bldg. 00628

Fort Stewart

Liberty GA 31314

Landholding Agency: Army

Property Number: 21200610046

Status: Excess

Comments: 10,050 sq. ft., needs rehab, most recent use—brigade hqtrs, off-site use only

Bldg. 01079

Fort Stewart

Liberty GA 31314

Landholding Agency: Army

Property Number: 21200610047

Status: Excess

Comments: 7680 sq. ft., most recent use—range/target house, off-site use only

Bldg. 07901

Fort Stewart

Liberty GA 31314

Landholding Agency: Army

Property Number: 21200610049

Status: Excess

Comments: 4800 sq. ft., most recent use—range support, off-site use only

Bldg. 08031

Fort Stewart

Liberty GA 31314

Landholding Agency: Army

Property Number: 21200610050

Status: Excess

Comments: 1296 sq. ft., most recent use—range/target house, off-site use only

Suitable/Unavailable Properties

Building

Georgia

Bldg. 08081

Fort Stewart

Liberty GA 31314

Landholding Agency: Army

Property Number: 21200610052

Status: Excess

Comments: 1296 sq. ft., most recent use—range/target house, off-site use only

Bldg. 08252

Fort Stewart

Liberty GA 31314

Landholding Agency: Army

Property Number: 21200610053

Status: Excess

Comments: 145 sq. ft., most recent use—control tower, off-site use only

Kentucky

Bldg. 06894

Fort Campbell

Christian KY 42223

Landholding Agency: Army

Property Number: 21200630070

Status: Unutilized

Comments: 4240 sq. ft., most recent use—vehicle maintenance shop, off-site use only

Bldg. 06895

Fort Campbell

Christian KY 42223

Landholding Agency: Army

Property Number: 21200630071

Status: Unutilized

Comments: 4725 sq. ft., most recent use—storage, off-site use only

Suitable/Unavailable Properties

Building

Louisiana

Bldg. T401

Fort Polk

Ft. Polk LA 71459

Landholding Agency: Army

Property Number: 21200540084

Status: Unutilized

Comments: 2169 sq. ft., most recent use—admin., off-site use only

Bldgs. T406, T407, T411

Fort Polk

Ft. Polk LA 71459

Landholding Agency: Army

Property Number: 21200540085

Status: Unutilized

Comments: 6165 sq. ft., most recent use—admin., off-site use only

Bldg. T412

Fort Polk

Ft. Polk LA 71459

Landholding Agency: Army

Property Number: 21200540086

Status: Unutilized

Comments: 12,251 sq. ft., most recent use—admin., off-site use only

Bldgs. T414, T421

Fort Polk

Ft. Polk LA 71459

Landholding Agency: Army

Property Number: 21200540087

Status: Unutilized

Comments: 6165/1688 sq. ft., most recent use—admin., off-site use only

Suitable/Unavailable Properties

Building

Maryland

Bldg. 8608

Fort George G. Meade

Ft. Meade MD 20755-5115

Landholding Agency: Army

Property Number: 21200410099

Status: Unutilized

Comments: 2372 sq. ft., concrete block, most recent use—PX exchange, off-site use only

Bldg. 8612

Fort George G. Meade

Ft. Meade MD 20755-5115

Landholding Agency: Army

Property Number: 21200410101

Status: Unutilized

Comments: 2372 sq. ft., concrete block, most recent use—family life ctr., off-site use only

Bldg. 0001A

Federal Support Center

Olney Co: Montgomery MD 20882

Landholding Agency: Army

Property Number: 21200520114

Status: Unutilized

Comments: 9000 sq. ft., most recent use—storage

Bldg. 0001C

Federal Support Center

Olney Co: Montgomery MD 20882

Landholding Agency: Army

Property Number: 21200520115

Status: Unutilized

Comments: 2904 sq. ft., most recent use—mess hall

Suitable/Unavailable Properties

Building

Maryland

Bldgs. 00032, 00H14, 00H24

Federal Support Center

Olney Co: Montgomery MD 20882

Landholding Agency: Army

Property Number: 21200520116

Status: Unutilized

Comments: various sq. ft., most recent use—storage

Bldgs. 00034, 00H016

Federal Support Center

Olney Co: Montgomery MD 20882

Landholding Agency: Army

Property Number: 21200520117

Status: Unutilized

Comments: 400/39 sq. ft., most recent use—storage

Bldgs. 00H10, 00H12

Federal Support Center

Olney Co: Montgomery MD 20882

Landholding Agency: Army

Property Number: 21200520118

Status: Unutilized

Comments: 2160/469 sq. ft., most recent use—vehicle maintenance

Suitable/Available Properties

Building

Michigan

Bldg. 00001

Sheridan Hall USARC

501 Euclid Avenue

Helena Co: Lewis MI 59601-2865

Landholding Agency: Army

Property Number: 21200510066

Status: Unutilized

Comments: 19,321 sq. ft., most recent use—reserve center

Missouri

Bldg. 1230

Fort Leonard Wood

Ft. Leonard Wood Co: Pulaski MO 65743-8944

Landholding Agency: Army

Property Number: 21200340087

Status: Unutilized

Comments: 9160 sq. ft., most recent use—training, off-site use only

Bldg. 1621

Fort Leonard Wood

Ft. Leonard Wood Co: Pulaski MO 65743-8944

Landholding Agency: Army

Property Number: 21200340088

Status: Unutilized

Comments: 2400 sq. ft., most recent use—exchange branch, off-site use only

Suitable/Available Properties

Building

Missouri

Bldg. 5760

Fort Leonard Wood

Ft. Leonard Wood Co: Pulaski MO 65743-8944

Landholding Agency: Army

Property Number: 21200410102

Status: Unutilized

Comments: 2000 sq. ft., most recent use—classroom, off-site use only

Bldg. 5762

Fort Leonard Wood

Ft. Leonard Wood Co: Pulaski MO 65743-8944

Landholding Agency: Army

Property Number: 21200410103

Status: Unutilized

Comments: 104 sq. ft., off-site use only

Bldg. 5763

Fort Leonard Wood

Ft. Leonard Wood Co: Pulaski MO 65743-8944

Landholding Agency: Army

Property Number: 21200410104

Status: Unutilized

Comments: 120 sq. ft., most recent use—observation tower, off-site use only

Bldg. 5765

Fort Leonard Wood

Ft. Leonard Wood Co: Pulaski MO 65743-8944

Landholding Agency: Army

Property Number: 21200410105

Status: Unutilized

Comments: 800 sq. ft., most recent use—range support, off-site use only

Suitable/Available Properties

Building

Missouri

Bldg. 5760

Fort Leonard Wood

Ft. Leonard Wood Co: Pulaski MO 65743-8944

Landholding Agency: Army

Property Number: 21200420059

Status: Unutilized

Comments: 2000 sq. ft., most recent use—classroom, off-site use only

Bldg. 5762

Fort Leonard Wood

Ft. Leonard Wood Co: Pulaski MO 65743-8944

Landholding Agency: Army

Property Number: 21200420060

Status: Unutilized

Comments: 104 sq. ft., off-site use only

Bldg. 5763

Fort Leonard Wood

Ft. Leonard Wood Co: Pulaski MO 65743-8944

Landholding Agency: Army

Property Number: 21200420061

Status: Unutilized

Comments: 120 sq. ft., most recent use—obs. tower, off-site use only

Bldg. 5765

Fort Leonard Wood

Ft. Leonard Wood Co: Pulaski MO 65743-8944

Landholding Agency: Army

Property Number: 21200420062

Status: Unutilized

Comments: 800 sq. ft., most recent use—support bldg., off-site use only

Suitable/Available Properties

Building

Missouri

Bldg. 00467

Fort Leonard Wood

Ft. Leonard Wood Co: Pulaski MO 65743

Landholding Agency: Army

Property Number: 21200530085

Status: Unutilized

Comments: 2790 sq. ft., most recent use—fast food facility, off-site use only

New York

Bldgs. 1511-1518

U.S. Military Academy

Training Area

Highlands Co: Orange NY 10996

Landholding Agency: Army

Property Number: 21200320160

Status: Unutilized

Comments: 2400 sq. ft. each, needs rehab, most recent use—barracks, off-site use only

Bldgs. 1523-1526

U.S. Military Academy

Training Area

Highlands Co: Orange NY 10996

Landholding Agency: Army

Property Number: 21200320161

Status: Unutilized

Comments: 2400 sq. ft. each, needs rehab, most recent use—barracks, off-site use only

Suitable/Available Properties

Building

New York

Bldgs. 1704-1705, 1721-1722

U.S. Military Academy

Training Area

Highlands Co: Orange NY 10996

Landholding Agency: Army

Property Number: 21200320162

Status: Unutilized

Comments: 2400 sq. ft. each, needs rehab, most recent use—barracks, off-site use only

Bldg. 1723

U.S. Military Academy

Training Area

Highlands Co: Orange NY 10996

Landholding Agency: Army

Property Number: 21200320163

Status: Unutilized

Comments: 2400 sq. ft., needs rehab, most recent use—day room, off-site use only

Bldgs. 1706-1709

U.S. Military Academy

Training Area

Highlands Co: Orange NY 10996

Landholding Agency: Army

Property Number: 21200320164

Status: Unutilized

Comments: 2400 sq. ft. each, needs rehab, most recent use—barracks, off-site use only

Suitable/Available Properties

Building

New York

Bldgs. 1731-1735

U.S. Military Academy

Training Area

Highlands Co: Orange NY 10996

Landholding Agency: Army

Property Number: 21200320165

Status: Unutilized

Comments: 2400 sq. ft. each, needs rehab, most recent use—barracks, off-site use only

North Carolina

Bldg. N4116

Fort Bragg

Ft. Bragg Co: Cumberland NC 28310

Landholding Agency: Army

Property Number: 21200240087

Status: Excess

Comments: 3944 sq. ft., possible asbestos/lead paint, most recent use—community facility, off-site use only

Texas

Bldgs. 4219, 4227

Fort Hood

Ft. Hood Co: Bell TX 76544

Landholding Agency: Army

Property Number: 21200220139

Status: Unutilized

Comments: 8056, 500 sq. ft., most recent use—admin., off-site use only

Suitable/Available Properties

Building

Texas

Bldgs. 4229, 4230, 4231

Fort Hood

Ft. Hood Co: Bell TX 76544

Landholding Agency: Army

Property Number: 21200220140

Status: Unutilized

Comments: 9000 sq. ft., most recent use—hq. bldg., off-site use only

Bldgs. 4244, 4246

Fort Hood

Ft. Hood Co: Bell TX 76544

Landholding Agency: Army

Property Number: 21200220141

Status: Unutilized

Comments: 9000 sq. ft., most recent use—storage, off-site use only

Bldgs. 4260, 4261, 4262

Fort Hood

Ft. Hood Co: Bell TX 76544

Landholding Agency: Army

Property Number: 21200220142

Status: Unutilized

Comments: 7680 sq. ft., most recent use—storage, off-site use only

Bldg. 04335

Fort Hood

Bell TX 76544

Landholding Agency: Army

Property Number: 21200440090

Status: Excess

Comments: 3378 sq. ft., possible asbestos, most recent use—general, off-site use only

Suitable/Available Properties

Building

Texas

Bldg. 04465

Fort Hood

Bell TX 76544

Landholding Agency: Army

Property Number: 21200440094

Status: Excess

Comments: 5310 sq. ft., possible asbestos, most recent use—general, off-site use only

Bldg. 04468

Fort Hood

Bell TX 76544

Landholding Agency: Army

Property Number: 21200440096

Status: Excess

Comments: 3100 sq. ft., possible asbestos, most recent use—misc., off-site use only

Bldg. 04473

Fort Hood

Bell TX 76544

Landholding Agency: Army

Property Number: 21200440097

Status: Excess

Comments: 3100 sq. ft., possible asbestos, most recent use—general, off-site use only

Bldgs. 04475-04476

Fort Hood

Bell TX 76544

Landholding Agency: Army

Property Number: 21200440098

Status: Excess

Comments: 3241 sq. ft., possible asbestos, most recent use—general, off-site use only

Suitable/Unavailable Properties

Building

Texas

Bldg. 04477

Fort Hood

Bell TX 76544

Landholding Agency: Army

Property Number: 21200440099

Status: Excess

Comments: 3100 sq. ft., possible asbestos, most recent use—general, off-site use only

Bldg. 07002

Fort Hood

Bell TX 76544

Landholding Agency: Army

Property Number: 21200440100

Status: Excess

Comments: 2598 sq. ft., possible asbestos, most recent use—fire station, off-site use only

Bldg. 57001

Fort Hood

Bell TX 76544

Landholding Agency: Army

Property Number: 21200440105

Status: Excess

Comments: 53,024 sq. ft., possible asbestos, most recent use—storage, off-site use only

Bldgs. 125, 126

Fort Hood

Bell TX 76544

Landholding Agency: Army

Property Number: 21200620075

Status: Excess

Comments: 2700/7200 sq. ft., presence of asbestos, most recent use—admin., off-site use only

Suitable/Unavailable Properties

Building

Texas

Bldg. 190

Fort Hood

Bell TX 76544

Landholding Agency: Army

Property Number: 21200620076

Status: Excess

Comments: 2995 sq. ft., presence of asbestos, most recent use—conf. center, off-site use only

Bldg. 02240

Fort Hood

Bell TX 76544

Landholding Agency: Army

Property Number: 21200620078

Status: Excess

Comments: 487 sq. ft., presence of asbestos, most recent use—pool svc bldg, off-site use only

Bldg. 04164

Fort Hood

Bell TX 76544

Landholding Agency: Army

Property Number: 21200620079

Status: Excess

Comments: 2253 sq. ft., presence of asbestos, most recent use—storage, off-site use only

Bldgs. 04218, 04228

Fort Hood

Bell TX 76544

Landholding Agency: Army

Property Number: 21200620080

Status: Excess

Comments: 4682/9000 sq. ft., presence of asbestos, most recent use—admin, off-site use only

Suitable/Unavailable Properties

Building

Texas

Bldg. 04272

Fort Hood

Bell TX 76544

Landholding Agency: Army

Property Number: 21200620081

Status: Excess

Comments: 7680 sq. ft., presence of asbestos, most recent use—storage, off-site use only

Bldg. 04415

Fort Hood

Bell TX 76544

Landholding Agency: Army

Property Number: 21200620083

Status: Excess

Comments: 1750 sq. ft., presence of asbestos, most recent use—classroom, off-site use only

4 Bldgs

Fort Hood

04419, 04420, 04421, 04424

Bell TX 76544

Landholding Agency: Army

Property Number: 21200620084

Status: Excess

Comments: 5310 sq. ft., presence of asbestos, most recent use—admin., off-site use only

Suitable/Unavailable Properties

Building

Texas

4 Bldgs.

Fort Hood

04425, 04426, 04427, 04429

Bell TX 76544

Landholding Agency: Army

Property Number: 21200620085

Status: Excess

Comments: 5310 sq. ft., presence of asbestos, most recent use—admin., off-site use only

Bldg. 04430

Fort Hood

Bell TX 76544

Landholding Agency: Army

Property Number: 21200620087

Status: Excess

Comments: 3241 sq. ft., presence of asbestos, most recent use—storage, off-site use only

Bldg. 04434

Fort Hood

Bell TX 76544

Landholding Agency: Army

Property Number: 21200620088

Status: Excess

Comments: 5310 sq. ft., presence of asbestos, most recent use—admin., off-site use only

Bldg. 04439

Fort Hood

Bell TX 76544

Landholding Agency: Army

Property Number: 21200620089

Status: Excess

Comments: 3312 sq. ft., presence of asbestos, most recent use—co ops bldg, off-site use only

Suitable/Unavailable Properties

Building

Texas

Bldgs. 04470, 04471

Fort Hood

Bell TX 76544

Landholding Agency: Army

Property Number: 21200620090

Status: Excess

Comments: 3241 sq. ft., presence of asbestos, most recent use—admin., off-site use only

Bldg. 04493

Fort Hood

Bell TX 76544

Landholding Agency: Army

Property Number: 21200620091

Status: Excess

Comments: 3108 sq. ft., presence of asbestos, most recent use—housing maint., off-site use only

Bldg. 04494

Fort Hood

Bell TX 76544

Landholding Agency: Army

Property Number: 21200620092

Status: Excess

Comments: 2686 sq. ft., presence of asbestos, most recent use—repair bays, off-site use only

Bldg. 04632

Fort Hood

Bell TX 76544

Landholding Agency: Army

Property Number: 21200620093

Status: Excess

Comments: 4000 sq. ft., presence of asbestos, most recent use—storage, off-site use only

Suitable/Unavailable Properties

Building

Texas

Bldg. 04640

Fort Hood

Bell TX 76544

Landholding Agency: Army

Property Number: 21200620094

Status: Excess

Comments: 1600 sq. ft., presence of asbestos, most recent use—storage, off-site use only

Bldg. 04645

Fort Hood

Bell TX 76544

Landholding Agency: Army

Property Number: 21200620095

Status: Excess

Comments: 5300 sq. ft., presence of asbestos, most recent use—storage, off-site use only

Bldg. 04906

Fort Hood

Bell TX 76544

Landholding Agency: Army

Property Number: 21200620096

Status: Excess

Comments: 1040 sq. ft., presence of asbestos, most recent use—storage, off-site use only

Bldg. 20121

Fort Hood

Bell TX 76544

Landholding Agency: Army

Property Number: 21200620097

Status: Excess

Comments: 5200 sq. ft., presence of asbestos, most recent use—rec center, off-site use only

Suitable/Unavailable Properties

Building

Texas

Bldg. 70004

Fort Hood

Bell TX 76544

Landholding Agency: Army

Property Number: 21200620100

Status: Excess

Comments: 800 sq. ft., presence of asbestos, most recent use—recreation, off-site use only

Bldg. 91052

Fort Hood

Bell TX 76544

Landholding Agency: Army

Property Number: 21200620101

Status: Excess

Comments: 224 sq. ft., presence of asbestos, most recent use—lab/test, off-site use only

Bldg. 1345

Fort Hood

Bell TX 76544

Landholding Agency: Army

Property Number: 21200740070

Status: Excess

Comments: 240 sq. ft., presence of asbestos, most recent use—oil storage, off-site use only

Bldgs. 1348, 1941

Fort Hood

Bell TX 76544

Landholding Agency: Army

Property Number: 21200740071

Status: Excess

Comments: 640/900 sq. ft., presence of asbestos, most recent use—admin., off-site use only

Suitable/Unavailable Properties

Building

Texas

Bldg. 1919

Fort Hood

Bell TX 76544

Landholding Agency: Army

Property Number: 21200740072

Status: Excess

Comments: 80 sq. ft., presence of asbestos, most recent use—pump station, off-site use only

Bldg. 1943

Fort Hood

Bell TX 76544

Landholding Agency: Army

Property Number: 21200740073

Status: Excess

Comments: 780 sq. ft., presence of asbestos, most recent use—rod & gun club, off-site use only

Bldg. 1946

Fort Hood

Bell TX 76544

Landholding Agency: Army

Property Number: 21200740074

Status: Excess

Comments: 2880 sq. ft., presence of asbestos, most recent use—storage, off-site use only

Bldg. 4205

Fort Hood

Bell TX 76544

Landholding Agency: Army

Property Number: 21200740075

Status: Excess

Comments: 600 sq. ft., presence of asbesos, most recent use—storage, off-site use only

Suitable/Unavailable Properties

Building

Texas

Bldg. 4207

Fort Hood

Bell TX 76544

Landholding Agency: Army

Property Number: 21200740076

Status: Excess

Comments: 2240 sq. ft., presence of asbestos, most recent use—maint. shop, off-site use only

Bldg. 4208

Fort Hood

Bell TX 76544

Landholding Agency: Army

Property Number: 21200740077

Status: Excess

Comments: 9464 sq. ft., presence of asbestos, most recent use—warehouse, off-site use only

Bldgs. 4210, 4211, 4216

Fort Hood

Bell TX 76544

Landholding Agency: Army

Property Number: 21200740078

Status: Excess

Comments: 4625/5280 sq. ft., presence of asbestos, most recent use—maint., off-site use only

Bldg. 4219A

Fort Hood

Bell TX 76544

Landholding Agency: Army

Property Number: 21200740079

Status: Excess

Comments: 446 sq. ft., presence of asbestos, most recent use—storage, off-site use only

Suitable/Unavailable Properties

Building

Texas

Bldg. 04252

Fort Hood

Bell TX 76544

Landholding Agency: Army

Property Number: 21200740081

Status: Excess

Comments: 9000 sq. ft., presence of asbestos, most recent use—storage, off-site use only

Bldg. 4255

Fort Hood

Bell TX 76544

Landholding Agency: Army

Property Number: 21200740082

Status: Excess

Comments: 448 sq ft., presence of asbestos, off-site use only

Bldg. 04480

Fort Hood

Bell TX 76544

Landholding Agency: Army

Property Number: 21200740083

Status: Excess

Comments: 2700 sq. ft., presence of asbestos, most recent use—storage, off-site use only

Bldg. 04485

Fort Hood

Bell TX 76544

Landholding Agency: Army

Property Number: 21200740084

Status: Excess

Comments: 640 sq. ft., presence of asbestos, most recent use—maint., off-site use only

Suitable/Unavailable Properties

Building

Texas

Bldgs. 04487, 04488

Fort Hood

Bell TX 76544

Landholding Agency: Army

Property Number: 21200740085

Status: Excess

Comments: 48/80 sq. ft., presence of asbestos, most recent use—utility bldg., off-site use only

Bldg. 04489

Fort Hood

Ft. Hood TX 76544

Landholding Agency: Army

Property Number: 21200740086

Status: Excess

Comments: 880 sq. ft., presence of asbestos, most recent use—admin., off-site use only

Bldgs. 4491, 4492

Fort Hood

Bell TX 76544

Landholding Agency: Army

Property Number: 21200740087

Status: Excess

Comments: 3108/1040 sq. ft., presence of asbestos, most recent use—maint., off-site use only

Bldgs. 04902, 04905

Fort Hood

Bell TX 76544

Landholding Agency: Army

Property Number: 21200740088

Status: Excess

Comments: 2575/6136 sq. ft., presence of asbestos, most recent use—vet bldg., off-site use only

Suitable/Unavailable Properties

Building

Texas

Bldgs. 04914, 04915, 04916

Fort Hood

Bell TX 76544

Landholding Agency: Army

Property Number: 21200740089

Status: Excess

Comments: 371 sq. ft., presence of asbestos, most recent use—animal shelter, off-site use only

Bldg. 20102

Fort Hood

Bell TX 76544

Landholding Agency: Army

Property Number: 21200740091

Status: Excess

Comments: 252 sq. ft., presence of asbestos, most recent use—recreation services, off-site use only

Bldg. 20118

Fort Hood

Bell TX 76544

Landholding Agency: Army

Property Number: 21200740092

Status: Excess

Comments: 320 sq. ft., presence of asbestos, most recent use—maint., off-site use only

Bldg. 29027

Fort Hood

Bell TX 76544

Landholding Agency: Army

Property Number: 21200740093

Status: Excess

Comments: 2240 sq. ft., presence of asbestos, most recent use—hdqts bldg, off-site use only

Suitable/Unavailable Properties

Building

Texas

Bldg. 56017

Fort Hood

Bell TX 76544

Landholding Agency: Army

Property Number: 21200740094

Status: Excess

Comments: 2592 sq. ft., presence of asbestos, most recent use—admin., off-site use only

Bldg. 56202

Fort Hood

Bell TX 76544

Landholding Agency: Army

Property Number: 21200740095

Status: Excess

Comments: 1152 sq. ft., presence of asbestos, most recent use—training, off-site use only

Bldg. 56224

Fort Hood

Bell TX 76544

Landholding Agency: Army

Property Number: 21200740096

Status: Excess

Comments: 80 sq. ft., presence of asbestos, off-site use only

Bldg. 56305

Fort Hood

Bell TX 76544

Landholding Agency: Army

Property Number: 21200740097

Status: Excess

Comments: 2160 sq. ft., presence of asbestos, most recent use—admin., off-site use only

Suitable/Unavailable Properties

Building

Texas

Bldg. 56311

Fort Hood

Bell TX 76544

Landholding Agency: Army

Property Number: 21200740098

Status: Excess

Comments: 480 sq. ft., presence of asbestos, most recent use—laundry, off-site use only

Bldg. 56327

Fort Hood

Bell TX 76544

Landholding Agency: Army

Property Number: 21200740099

Status: Excess

Comments: 6000 sq. ft., presence of asbestos, most recent use—admin., off-site use only

Bldg. 56329

Fort Hood

Bell TX 76544

Landholding Agency: Army

Property Number: 21200740100

Status: Excess

Comments: 2080 sq. ft., presence of asbestos, most recent use—officers qtrs., off-site use only

Suitable/Unavailable Properties

Building

Texas

9 Bldgs.

Fort Hood

Bell TX 76544

Landholding Agency: Army

Property Number: 21200740101

Status: Excess

Directions: 56526, 56527, 56528, 56530, 56531, 56536, 56537, 56538, 56540

Comments: various sq. ft., presence of asbestos, most recent use—lavatory, off-site use only

Bldg. 92043

Fort Hood

Bell TX 76544

Landholding Agency: Army

Property Number: 21200740102

Status: Excess

Comments: 450 sq. ft., presence of asbestos, most recent use—storage, off-site use only

Bldg. 92072

Fort Hood

Bell TX 76544

Landholding Agency: Army

Property Number: 21200740103

Status: Excess

Comments: 2400 sq. ft., presence of asbestos, most recent use—admin., off-site use only

Suitable/Unavailable Properties

Building

Texas

Bldg. 92083

Fort Hood

Bell TX 76544

Landholding Agency: Army

Property Number: 21200740104

Status: Excess

Comments: 240 sq. ft., presence of asbestos, most recent use—utility bldg., off-site use only

Bldgs. 04213, 04227

Fort Hood

Bell TX 76544

Landholding Agency: Army

Property Number: 21200740189

Status: Excess

Comments: 14183/10500 sq. ft., presence of asbestos, most recent use—admin., off-site use only

Bldg.4404

Fort Hood

Bell TX 76544

Landholding Agency: Army

Property Number: 21200740190

Status: Excess

Comments: 8043 sq ft., presence of asbestos, most recent use—training bldg., off-site use only

Bldg. 56607

Fort Hood

Bell TX 76544

Landholding Agency: Army

Property Number: 21200740191

Status: Excess

Comments: 3552 sq. ft., presence of asbestos, most recent use—chapel, off-site use only

Suitable/Unavailable Properties

Building

Texas

Bldg. 91041

Fort Hood

Bell TX 76544

Landholding Agency: Army

Property Number: 21200740192

Status: Excess

Comments: 1920 sq. ft., presence of asbestos, most recent use—shed, off-site use only

5 Bldgs.

Fort Hood 93010, 93011, 93012, 93014

Bell TX 76544

Landholding Agency: Army

Property Number: 21200740193

Status: Excess

Comments: 210/800 sq. ft., presence of asbestos, most recent use—private club, off-site use only

Bldg. 94031

Fort Hood

Bell TX 76544

Landholding Agency: Army

Property Number: 21200740194

Status: Excess

Comments: 1008 sq. ft., presence of asbestos, most recent use—training, off-site use only

Suitable/Unavailable Properties

Building

Virginia

Bldg. T2827

Fort Pickett

Blackstone Co: Nottoway VA 23824

Landholding Agency: Army

Property Number: 21200320172

Status: Unutilized

Comments: 3550 sq. ft., presence of asbestos, most recent use—dining, off-site use only

Bldg. T2841

Fort Pickett

Blackstone Co: Nottoway VA 23824

Landholding Agency: Army

Property Number: 21200320173

Status: Unutilized

Comments: 2950 sq. ft., presence of asbestos, most recent use—dining, off-site use only

Bldg. 01014

Fort Story

Ft. Story VA 23459

Landholding Agency: Army

Property Number: 21200720067

Status: Unutilized

Comments: 1014 sq. ft., most recent use—admin., off-site use only

Bldg. 01022

Fort Story

Ft. Story VA 23459

Landholding Agency: Army

Property Number: 21200720068

Status: Unutilized

Comments: 2398 sq. ft., most recent use—dining, off-site use only

Suitable/Unavailable Properties

Building

Virginia

4 Bldgs.

Fort Story

01023, 01029, 01036, 01038

Ft. Story VA 23459

Landholding Agency: Army

Property Number: 21200720069

Status: Unutilized

Comments: 4800 sq. ft., most recent use—barracks, off-site use only

Bldg. 01063

Fort Story

Ft. Story VA 23459

Landholding Agency: Army

Property Number: 21200720072

Status: Unutilized

Comments: 2000 sq. ft., most recent use—storage, off-site use only

Bldg. 00215

Fort Eustis

Ft. Eustis VA 23604

Landholding Agency: Army

Property Number: 21200720073

Status: Unutilized

Comments: 2540 sq. ft., most recent use—admin., off-site use only

Suitable/Unavailable Properties

Building

Virginia

4 Bldgs.

Fort Eustis

01514, 01523, 01528, 01529

Ft. Eustis VA 23604

Landholding Agency: Army

Property Number: 21200720074

Status: Unutilized

Comments: 4720 sq. ft., most recent use—admin., off-site use only

4 Bldgs.

Fort Eustis

01534, 01542, 01549, 01557

Ft. Eustis VA 23604

Landholding Agency: Army

Property Number: 21200720075

Status: Unutilized

Comments: 4720 sq. ft., most recent use—admin., off-site use only

Bldgs. 01707, 01719

Fort Eustis

Ft. Eustis VA 23604

Landholding Agency: Army

Property Number: 21200720077

Status: Unutilized

Comments: 4720 sq. ft., most recent use—admin., off-site use only

Suitable/Unavailable Properties

Building

Virginia

Bldg. 01720

Fort Eustis

Ft. Eustis VA 23604

Landholding Agency: Army

Property Number: 21200720078

Status: Unutilized

Comments: 1984 sq. ft., most recent use—admin., off-site use only

Bldgs. 01721, 01725

Fort Eustis

Ft. Eustis VA 23604

Landholding Agency: Army

Property Number: 21200720079

Status: Unutilized

Comments: 4720 sq. ft., most recent use—admin., off-site use only

Bldgs. 01726, 01735, 01736

Fort Eustis

Ft. Eustis VA 23604

Landholding Agency: Army

Property Number: 21200720080

Status: Unutilized

Comments: 1144 sq. ft., most recent use—admin., off-site use only

Bldgs. 01734, 01745, 01747

Fort Eustis

Ft. Eustis VA 23604

Landholding Agency: Army

Property Number: 21200720081

Status: Unutilized

Comments: 4720 sq. ft., most recent use—admin., off-site use only

Suitable/Unavailable Properties

Building

Virginia

Bldg. 01741

Fort Eustis

Ft. Eustis VA 23604

Landholding Agency: Army

Property Number: 21200720082

Status: Unutilized

Comments: 1984 sq. ft., most recent use—admin., off-site use only

Bldg. 02720

Fort Eustis

Ft. Eustis VA 23604

Landholding Agency: Army

Property Number: 21200720083

Status: Unutilized

Comments: 400 sq. ft., most recent use—storage, off-site use only

Washington

Bldg. 05904

Fort Lewis

Ft. Lewis Co: Pierce WA 98433-9500

Landholding Agency: Army

Property Number: 21200240092

Status: Excess

Comments: 82 sq. ft., most recent use—guard shack, off-site use only

Unsuitable Properties

Buildings (by State)

Alabama

92 Bldgs.

Redstone Arsenal

Redstone Arsenal Co: Madison AL 35898-

Landholding Agency: Army

Property Number: 21200040005-21200040012, 21200120018, 21200220003-21200220004, 21200240007-21200240022, 21200330001-2120330004, 21200340011, 21200340095, 21200420068-21200420071, 21200440001, 21200520002, 21200540002-21200540006, 21200610003-21200610004, 21200620002, 21200630020, 21200740108

Status: Unutilized

Reason: Secured Area, Extensive deterioration

19 Bldgs., Fort Rucker

Ft. Rucker Co: Dale AL 36362

Landholding Agency: Army

Property Number: 21200040013, 21200440005, 21200540001, 21200540100, 21200610008, 21200620001, 21200640002-21200640005, 21200720001

Status: Unutilized

Reason: Extensive deterioration

Bldg. 01271

Fort McClellan

Ft. McClellan Co: Calhoun AL 36205-5000

Landholding Agency: Army

Property Number: 21200430004

Status: Unutilized

Reason: Extensive deterioration

Alaska

3 Bldgs., Fort Wainwright

Ft. Wainwright AK 99703

Landholding Agency: Army

Property Number: 21200610001-21200610002

Status: Unutilized

Reason: Within 2000 ft. of flammable or explosive material Secured area Floodway

3 Bldgs., Fort Richardson

Ft. Richardson Co: AK 99505

Landholding Agency: Army

Property Number: 21200340006

Status: Excess

Reason: Extensive deterioration

Bldg. 02A60

Noatak Armory

Kotzebue AK

Landholding Agency: Army

Property Number: 21200740105

Status: Excess

Reasons: Within 2000 ft. of flammable or explosive material

Bldg. 01212

Ft. Greely

Ft. Greely AK 99731

Landholding Agency: Army

Property Number: 21200740106

Status: Unutilized

Reasons: Extensive deterioration Secured Area Within 2000 ft. of flammable or explosive material

Arizona

32 Bldgs.

Navajo Depot Activity

Bellemont Co: Coconino AZ 86015-

Location: 12 miles west of Flagstaff, Arizona on I-40

Landholding Agency: Army

Property Number: 219014560-219014591

Status: Underutilized

Reason: Secured Area

10 properties: 753 earth covered igloos; above ground standard magazines

Navajo Depot Activity

Bellemont Co: Coconino AZ 86015-

Landholding Agency: Army

Property Number: 219014592-219014601

Status: Underutilized

Reason: Secured Area

7 Bldgs.

Navajo Depot Activity

Bellemont Co: Coconino AZ 86015-5000

Landholding Agency: Army

Property Number: 219030273, 219120177-219120181

Status: Unutilized

Reason: Secured Area

102 Bldgs.

Camp Navajo

Bellemont Co: AZ 86015

Landholding Agency: Army

Property Number: 21200140006-21200140010, 21200740109-21200740114

Status: Unutilized

Reason: Within 2000 ft. of flammable or explosive material Secured Area (Most are extensively deteriorated)

7 Bldgs.

Papago Park Military Rsv

Phoenix AZ 85008

Landholding Agency: Army

Property Number: 21200740001-21200740002

Status: Unutilized

Reason: Extensive deterioration Within airport runway clear zone Secured Area

Arkansas

190 Bldgs., Fort Chaffee

Ft. Chaffee Co: Sebastian AR 72905-5000

Landholding Agency: Army

Property Number: 219630019, 219630021, 219630029, 219640462-219640477, 21200110001-21200110017, 21200140011-21200140014, 21200530001

Status: Unutilized

Reason: Extensive deterioration

California

Bldg. 18

Riverbank Army Ammunition Plant

5300 Claus Road

Riverbank Co: Stanislaus CA 95367-

Landholding Agency: Army

Property Number: 219012554

Status: Unutilized

Reason: Within 2000 ft. of flammable or explosive material Secured Area

12 Bldgs.

Riverbank Army Ammunition Plant

Riverbank Co: Stanislaus CA 95367-

Landholding Agency: Army

Property Number: 219013582-219013588, 219013590, 219240444-219240446, 21200530003

Status: Underutilized

Reason: Secured Area

Bldgs. 13, 171, 178 Riverbank Ammun Plant

5300 Claus Road

Riverbank Co: Stanislaus CA 95367-

Landholding Agency: Army

Property Number: 219120162-219120164

Status: Underutilized

Reason: Secured Area

40 Bldgs.

DDDRW Sharpe Facility

Tracy Co: San Joaquin CA 95331

Landholding Agency: Army

Property Number: 219610289, 21199930021, 21200030005-21200030015, 21200040015, 21200120029-21200120039, 21200130004, 21200240025-21200240030, 21200330007

Status: Unutilized

Reason: Secured Area

61 Bldgs.

Los Alamitos Co: Orange CA 90720-5001

Landholding Agency: Army

Property Number: 219520040, 21200530002

Status: Unutilized

Reason: Extensive deterioration

8 Bldgs.

Sierra Army Depot

Herlong Co: Lassen CA 96113

Landholding Agency: Army

Property Number: 21199840015, 21199920033-21199920036

Status: Underutilized

Reason: Within 2000 ft. of flammable or explosive material Secured Area

569 Bldgs., Camp Roberts

Camp Roberts Co: San Obispo CA

Landholding Agency: Army

Property Number: 21199730014, 219820205-219820234, 21200530004, 21200540007-21200540031

Status: Excess

Reason: Secured Area Extensive deterioration

24 Bldgs.

Presidio of Monterey Annex

Seaside Co: Monterey CA 93944

Landholding Agency: Army

Property Number: 21199940051

Status: Unutilized

Reason: Extensive deterioration

46 Bldgs.

Fort Irwin

Ft. Irwin Co: San Bernardino CA 92310

Landholding Agency: Army

Property Number: 21199920037-21199920038, 21200030016-21200030018, 21200040014, 21200110018-21200110020, 21200130002-21200130003, 21200210001-21200210005, 21200240031-21200240033

Status: Unutilized

Reason: Secured Area Extensive deterioration

5 Bldgs.

Fort Hunter Liggett

Monterey CA 93928

Landholding Agency: Army

Property Number: 21200740115-21200740116

Status: Unutilized

Reasons: Extensive deterioration

5 Bldgs., March AFRC

Riverside CA 92518

Landholding Agency: Army

Property Number: 21200710001-21200710002

Status: Unutilized

Reasons: Extensive deterioration

Colorado

Bldgs. T-317, T-412, 431, 433

Rocky Mountain Arsenal

Commerce Co: Adams CO 80022-2180

Landholding Agency: Army

Property Number: 219320013-219320016

Status: Unutilized

Reason: Within 2000 ft. of flammable or explosive material Secured Area Extensive deterioration

17 Bldgs., Fort Carson

Ft. Carson Co: El Paso CO 80913-5023

Landholding Agency: Army

Property Number: 219830024, 21200130006-21200130009, 21200420161-21200420164, 21200720003, 21200740003-21200740004

Status: Unutilized

Reason: Extensive deterioration (Some are within 2000 ft. of flammable or explosive material)

16 Bldgs., Pueblo Chemical Depot

Pueblo CO 81006-9330

Landholding Agency: Army

Property Number: 21200030019-21200030021, 21200420165-21200420166, 21200610009-21200610010, 21200630023, 21200720002, 21200720007-21200720008

Status: Unutilized

Reason: Extensive deterioration

Georgia

Fort Stewart, Sewage Treatment Plant

Ft. Stewart Co: Hinesville GA 31314

Landholding Agency: Army

Property Number: 219013922

Status: Unutilized

Reason: Sewage treatment

10 Bldgs., Fort Gordon

Augusta Co: Richmond GA 30905

Landholding Agency: Army

Property Number: 21200610012, 21200720009-21200720010

Status: Unutilized

Reason: Extensive deterioration

152 Bldgs., Fort Benning

Ft. Benning Co: Muscogee GA 31905

Landholding Agency: Army

Property Number: 219610320, 219720017-219720019, 219810028, 219810030, 219830073, 21200030026, 21200330008-21200330010, 21200410001-21200410009, 21200430011-21200430016, 21200440009, 21200510003, 21200540032-21200540033, 21200610011, 21200620004, 21200630024-21200630027, 21200640007-21200640021, 21200710011, 21200720004-21200720006, 21200740005-21200740006, 21200740120-21200740122

Status: Unutilized

Reason: Extensive deterioration

32 Bldgs.

Fort Gillem

Forest Park Co: Clayton GA 30050

Landholding Agency: Army

Property Number: 219620815, 21199920044-21199920050, 21200140016,21200220011-21200220012, 21200230005, 21200340013-21200340016, 21200420074-21200420082

Status: Unutilized

Reason: Extensive deterioration Secured Area

28 Bldgs., Fort Stewart

Hinesville Co: Liberty GA 31314

Landholding Agency: Army

Property Number: 21199940060, 21200540034, 21200710005-21200710009, 21200720011, 21200740007, 21200740123-21200740125

Status: Unutilized

Reason: Extensive deterioration

8 Bldgs., Hunter Army Airfield

Savannah Co: Chatham GA 31409

Landholding Agency: Army

Property Number: 219830068, 21200710010, 21200720012, 21200740117-21200740119

Status: Unutilized

Reason: Extensive deterioration

6 Bldgs., Fort McPherson

Ft. McPherson Co: Fulton GA 30330-5000

Landholding Agency: Army

Property Number: 21200040016-21200040018, 21200230004, 21200520004

Status: Unutilized

Reason: Secured Area

Bldgs. 00023, 00049, 00070, Camp Merrill

Dahlonega Co: Lumpkin GA 30533

Landholding Agency: Army

Property Number: 21200520005

Status: Unutilized

Reason: Extensive deterioration

Hawaii

30 Bldgs.

Schofield Barracks

Wahiawa Co: Wahiawa HI 96786

Landholding Agency: Army

Property Number: 219014836-219014837, 21200540035-21200540037, 21200620008-21200620010, 21200640022, 21200740009-21200740012

Status: Unutilized

Reason: Secured Area (Most are extensively deteriorated)

70 Bldgs.

Kipapa Ammo Storage Site

Honolulu Co: HI 96786

Landholding Agency: Army

Property Number: 21200520006, 21200620011

Status: Unutilized

Reason: Extensive deterioration

9 Bldgs.

Wheeler Army Airfield

Honolulu Co: HI 96786

Landholding Agency: Army

Property Number: 2120052007-21200520008, 21200620006-21200620007, 21200630028

Status: Unutilized

Reason: Extensive deterioration

140 Bldgs., Aliamanu

Honolulu Co: HI 96818

Landholding Agency: Army

Property Number: 21200440015-21200440017, 21200620005

Status: Unutilized

Reason: Contamination (Some are in a secured area)

7 Bldgs., Kalaeloa

Kapolei HI 96707

Landholding Agency: Army

Property Number: 21200640108-21200640112

Status: Unutilized

Reasons: Extensive deterioration

Facilities 00001, 00002

Tanapag USARC

Tanapag HI

Landholding Agency: Army

Property Number: 21200740008

Status: Unutilized

Reasons: Extensive deterioration

Idaho

Bldg. 00110, Wilder

Canyon ID 83676

Landholding Agency: Army

Property Number: 21200740134

Status: Unutilized

Reasons: Secured Area Extensive deterioration

Illinois

3 Bldgs.

Rock Island Arsenal

Rock Island Co: Rock Island IL 61299-5000

Landholding Agency: Army

Property Number: 219620428, 21200140043-21200140044

Status: Unutilized

Reason: Some are in a secured area Some are extensively deteriorated Some are within 2000 ft. of flammable or explosive material

15 Bldgs.

Charles Melvin Price Support Center

Granite City Co: Madison IL 62040

Landholding Agency: Army

Property Number: 219820027, 21199930042-21199930053

Status: Unutilized

Reason: Secured Area, Floodway Extensive deterioration

Indiana

135 Bldgs.

Newport Army Ammunition Plant

Newport Co: Vermillion IN 47966-

Landholding Agency: Army

Property Number: 219011584, 219011586-219011587, 219011589-219011590, 219011592-219011627, 219011629-219011636, 219011638-219011641, 219210149, 219430336, 219430338, 219530079-219530096, 219740021-219740026, 219820031-219820032, 21199920063, 21200330015-21200330016, 21200440019, 21200610013-21200610014, 21200710025

Status: Unutilized

Reason: Secured Area (Some are extensively deteriorated)

2 Bldgs.

Atterbury Reserve Forces Training Area

Edinburgh Co: Johnson IN 46124-1096

Landholding Agency: Army

Property Number: 219230030-219230031

Status: Unutilized

Reason: Extensive deterioration

Bldgs. 300, 00112, 00123

Fort Benjamin Harrison

Indianapolis Co: Marion IN 46216

Landholding Agency: Army

Property Number: 21200320011, 21200430017

Status: Unutilized

Reason: Contamination

Iowa

199 Bldgs.

Iowa Army Ammunition Plant

Middletown Co: Des Moines IA 52638

Landholding Agency: Army

Property Number: 219012605-219012607, 219012609, 219012611, 219012613, 219012620, 219012622, 219012624, 219013706-219013738, 219120172-219120174, 219440112-219440158, 219520002, 219520070, 219740027, 21200220022, 21200230019-21200230023, 21200330012-21200330014, 21200340017, 21200420083, 21200430018, 21200440018, 21200510004-21200510006, 21200520009, 21200540038-21200540039, 21200620012, 21200710020-21200710024, 21200740126-21200740133

Status: Unutilized

Reason: (Many are in a Secured Area) (Most are within 2000 ft. of flammable or explosive material)

27 Bldgs., Iowa Army Ammunition Plant

Middletown Co: Des Moines IA 52638

Landholding Agency: Army

Property Number: 219230005-219230029, 219310017, 219340091

Status: Unutilized

Reason: Extensive deterioration

Kansas

37 Bldgs.

Kansas Army Ammunition Plant

Production Area

Parsons Co: Labette KS 67357-

Landholding Agency: Army

Property Number: 219011909-219011945

Status: Unutilized

Reason: Secured Area (Most are within 2000 ft. of flammable or explosive material)

121 Bldgs.

Kansas Army Ammunition Plant

Parsons Co: Labette KS 67357

Landholding Agency: Army

Property Number: 219620518-219620638

Status: Unutilized

Reason: Secured Area

3 Bldgs.

Fort Riley

Ft. Riley Co: Riley KS 66442

Landholding Agency: Army

Property Number: 21200310007, 21200540040, 21200740135

Status: Unutilized

Reason: Extensive deterioration

Bldgs. 00111, 00417

Fort Leavenworth

Leavenworth KS 66027

Landholding Agency: Army

Property Number: 21200740013

Status: Unutilized

Reasons: Extensive deterioration

Kentucky

Bldg. 126

Lexington—Blue Grass Army Depot

Lexington Co: Fayette KY 40511-

Landholding Agency: Army

Property Number: 219011661

Status: Unutilized

Reason: Secured Area Sewage treatment facility

Bldg. 12

Lexington—Blue Grass Army Depot

Lexington Co: Fayette KY 40511

Landholding Agency: Army

Property Number: 219011663

Status: Unutilized

Reason: Industrial waste treatment plant

37 Bldgs., Fort Knox

Ft. Knox Co: Hardin KY 40121-

Landholding Agency: Army

Property Number: 21200130028-21200130029, 21200440025-21200440026, 21200510007-21200510009, 21200640023, 21200740014

Status: Unutilized

Reason: Extensive deterioration

90 Bldgs., Fort Campbell

Ft. Campbell Co: Christian KY 42223

Landholding Agency: Army

Property Number: 21200110038-21200110043, 21200140053, 21200220029, 21200330018, 21200520012-21200520015, 21200530007, 21200610015, 21200640024-21200640032, 21200720014-21200720025, 21200740139

Status: Unutilized

Reason: Extensive deterioration

29 Bldgs.

Blue Grass Army Depot

Richmond Co: Madison KY 40475

Landholding Agency: Army

Property Number: 21200520011, 21200620013, 21200640033-21200640035, 21200710026-21200710030, 21200720013, 21200740136-21200740138

Status: Unutilized

Reason: Secured Area

Louisiana

528 Bldgs.

Louisiana Army Ammunition Plant

Doylin Co: Webster LA 71023-

Landholding Agency: Army

Property Number: 219011714-219011716, 219011735-219011737, 219012112, 219013863-219013869, 219110131, 219240138-219240147, 219420332, 219610049-219610263, 219620002-219620200, 219620749-219620801, 219820047-219820078

Status: Unutilized

Reason: Secured Area (Most are within 2000 ft. of flammable or explosive material) (Some are extensively deteriorated)

81 Bldgs., Fort Polk

Ft. Polk Co: Vernon Parish LA 71459-7100

Landholding Agency: Army

Property Number: 21199920070, 21200130030-21200130043, 21200530008-21200530017, 21200610016-21200610019, 21200620014, 21200640036-21200640048

Status: Unutilized

Reason: Extensive deterioration (Some are in Floodway)

Maryland

110 Bldgs., Aberdeen Proving Ground

Aberdeen City Co: Harford MD 21005-5001

Landholding Agency: Army

Property Number: 219012610, 219012638-219012640, 219012658, 219610489-219610490, 219730077, 219810076-219810112, 219820090, 219820096, 21200120059, 21200120060, 21200410017-21200410032, 21200420098-21200420100, 21200440027, 21200520021, 21200740015, 21200740141-21200740144

Status: Unutilized

Reason: Most are in a secured area (Some are within 2000 ft. of flammable or explosive material) (Some are in a floodway) (Some are extensively deteriorated)

63 Bldgs., Ft. George G. Meade

Ft. Meade Co: Anne Arundel MD 20755-

Landholding Agency: Army

Property Number: 219810065, 21200140059-21200140060, 21200410014, 21200510018, 21200520020, 21200620015, 21200640049-21200640050, 21200710031, 21200740016

Status: Unutilized

Reason: Extensive deterioration

Bldg. 00211, Curtis Bay Ordnance Depot

Baltimore Co: MD 21226

Landholding Agency: Army

Property Number: 21200320024

Status: Unutilized

Reason: Extensive deterioration

5 Bldgs., Fort Detrick

Frederick Co: MD 21702

Landholding Agency: Army

Property Number: 21200540041, 21200640113, 21200720026, 21200740140

Status: Unutilized

Reason: Secured Area

Bldg. 0001B

Federal Support Center

Olney Co: Montgomery MD 20882

Landholding Agency: Army

Property Number: 21200530018

Status: Underutilized

Reason: Within 2000 ft. of flammable or explosive material

Massachusetts

Bldg. 3462, Camp Edwards

Massachusetts Military Reservation

Bourne Co: Barnstable MA 024620-5003

Landholding Agency: Army

Property Number: 219230095

Status: Unutilized

Reason: Secured Area; Extensive deterioration

Bldg. 1211 Camp Edwards

Massachusetts Military Reservation

Bourne Co: Barnstable MA 02462-5003

Landholding Agency: Army

Property Number: 219310020

Status: Unutilized

Reason: Secured Area

Facility No. 0G001

LTA Granby

Granby Co: Hampshire MA

Landholding Agency: Army

Property Number: 219810062

Status: Unutilized

Reason: Extensive deterioration

6 Bldgs.

Fera USARC

Danvers Co: Essex MA 01923-1121

Landholding Agency: Army

Property Number: 21200420089-21200420092

Status: Unutilized

Reason: Extensive deterioration

Michigan

Bldgs. 5755-5756

Newport Weekend Training Site

Carleton Co: Monroe MI 48166

Landholding Agency: Army

Property Number: 219310060-219310061

Status: Unutilized

Reason: Secured Area; Extensive deterioration

54 Bldgs.

Fort Custer Training Center

2501 26th Street

Augusta Co: Kalamazoo MI 49102-9205

Landholding Agency: Army

Property Number: 21200220058-21200220062, 21200410036-21200410042, 21200540048-21200540051

Status: Unutilized

Reason: Extensive deterioration

39 Bldgs.

US Army Garrison-Selfridge

Macomb Co: MI 48045

Landholding Agency: Army

Property Number: 21200420093, 21200510020-21200510023

Status: Unutilized

Reason: Secured Area

4 Bldgs., Poxin USAR Center

Southfield Co: Oakland MI 48034

Landholding Agency: Army

Property Number: 21200330026-21200330027, 21200420095

Status: Unutilized

Reason: Extensive deterioration

20 Bldgs.

Grayling Army Airfield

Grayling Co: Crawford MI 49739

Landholding Agency: Army

Property Number: 21200410034-21200410035, 21200540042-21200540047

Status: Excess

Reason: Extensive deterioration

Bldg. 001, Crabble USARC

Saginaw MI 48601-4099

Landholding Agency: Army

Property Number: 21200420094

Status: Unutilized

Reason: Extensive deterioration

Bldg. 00714

Selfridge Air Natl Guard Base

Macomb Co: MI 48045

Landholding Agency: Army

Property Number: 21200440032

Status: Unutilized

Reason: Extensive deterioration

4 Bldgs.

Detroit Arsenal

T0209, T0216, T0246, T0247

Warren Co: Macomb MI 88397-5000

Landholding Agency: Army

Property Number: 21200520022

Status: Unutilized

Reason: Secured Area

Minnesota

160 Bldgs.

Twin Cities Army Ammunition Plant

New Brighton Co: Ramsey MN 55112

Landholding Agency: Army

Property Number: 219120166, 219210014-219210015, 219220227-219220235, 219240328, 219310056, 219320152-219320156, 219330096-219330106, 219340015, 219410159-219410189, 219420198-219420283, 219430060-219430064, 21200130053-21200130054

Status: Unutilized

Reason: Secured Area (Most are within 2000 ft. of flammable or explosive material.) (Some are extensively deteriorated)

Missouri

83 Bldgs., Lake City Army Ammo. Plant

Independence Co: Jackson MO 64050

Landholding Agency: Army

Property Number: 219013666-219013669, 219530134, 219530136, 21199910023-21199910035, 21199920082, 21200030049

Status: Unutilized

Reason: Secured Area (Some are within 2000 ft. of flammable or explosive material)

9 Bldgs.

St. Louis Army Ammunition Plant

4800 Goodfellow Blvd.

St. Louis Co: St. Louis MO 63120-1798

Landholding Agency: Army

Property Number: 219120067-219120068, 219610469-219610475

Status: Unutilized

Reason: Secured Area (Some are extensively deteriorated.)

34 Bldgs., Fort Leonard Wood

Ft. Leonard Wood Co: Pulaski MO 65473-5000

Landholding Agency: Army

Property Number: 219430075, 21199910020-21199910021, 21200320025, 21200330028-21200330031, 21200430029, 21200530019, 21200640051-21200640052, 21200740145-21200740148

Status: Unutilized

Reason: Within 2000 ft. of flammable or explosive material (Some are extensively deteriorated.)

Bldg. P4122, U.S. Army Reserve Center

St. Louis Co: St. Charles MO 63120-1794

Landholding Agency: Army

Property Number: 21200240055

Status: Unutilized

Reason: Extensive deterioration

Bldgs. P4074, P4072, P4073

St. Louis Ordnance Plant

St. Louis Co: St. Charles MO 63120-1794

Landholding Agency: Army

Property Number: 21200310019

Status: Unutilized

Reason: Extensive deterioration

Montana

5 Bldgs., Fort Harrison

Ft. Harrison Co: Lewis/Clark MT 59636

Landholding Agency: Army

Property Number: 21200420104, 21200740018

Status: Excess

Reasons: Secured Area Extensive deterioration

Nevada

Bldg. 292

Hawthorne Army Ammunition Plant

Hawthorne Co: Mineral NV 89415

Landholding Agency: Army

Property Number: 219013614

Status: Unutilized

Reason: Secured Area

39 Bldgs.

Hawthorne Army Ammunition Plant

Hawthorne Co: Mineral NV 89415

Landholding Agency: Army

Property Number: 219012013, 219013615-219013643,

Status: Underutilized

Reason: Secured Area (Some within airport runway clear zone; many within 2000 ft. of flammable or explosive material)

Group 101, 34 Bldgs.

Hawthorne Army Ammunition Plant

Hawthorne Co: Mineral NV 89415-0015

Landholding Agency: Army

Property Number: 219830132

Status: Unutilized

Reason: Within 2000 ft. of flammable or explosive material; Secured Area

New Jersey

235 Bldgs., Picatinny Arsenal

Dover Co: Morris NJ 07806-5000

Landholding Agency: Army

Property Number: 219010444-219010474, 219010639-219010664, 219010680-219010715, 219012428, 219012430, 219012433-219012465, 219012469, 219012475, 219012765, 00219014306, 219014311, 219014317, 219140617, 219230123, 219420006, 219530147, 219540005, 219540007, 219740113-219740127, 21199940094-21199940099, 21200130057-21200130063, 21200220063, 21200230072-21200230075, 21200330047-21200330063, 21200410043-21200410044, 21200520024-21200520039, 21200530022-21200530028, 21200620017-21200620022, 21200630001-21200630019, 21200720028, 21200720102-21200720104

Status: Excess

Reason: Secured Area (Most are within 2000 ft. of flammable or explosive material.) (Some are extensively deteriorated and in a floodway)

6 Bldgs., Ft. Monmouth

Ft. Monmouth Co: NJ 07703

Landholding Agency: Army

Property Number: 21200430030, 21200510025-21200510027

Status: Unutilized

Reason: Extensive deterioration

6 Bldgs, Fort Dix

Burlington NJ 08640

Landholding Agency: Army

Property Number: 21200740019, 21200740149

Status: Unutilized

Reason: Extensive deterioration

New Mexico

166 Bldgs.

White Sands Missile Range

Dona Ana Co: NM 88002

Landholding Agency: Army

Property Number: 21200410045-21200410049, 21200440034-21200440045, 21200620023

Status: Excess

Reason: Secured Area

New York

Bldg. 12, Watervliet Arsenal

Watervliet NY

Landholding Agency: Army

Property Number: 219730099

Status: Unutilized

Reason: Extensive deterioration (Secured Area)

13 Bldgs., Youngstown Training Site

Youngstown Co: Niagara NY 14131

Landholding Agency: Army

Property Number: 21200220064-21200220069

Status: Unutilized

Reason: Extensive deterioration

Bldgs. 1716, 3014, 3018 U.S. Military Academy

West Point Co: NY 10996

Landholding Agency: Army

Property Number: 21200330064, 21200410050, 21200520040

Status: Unutilized

Reason: Extensive deterioration

74 Bldgs., Fort Drum

Ft. Drum Co: Jefferson NY 13602

Landholding Agency: Army

Property Number: 21200340027-21200340029, 21200410051, 21200420112-21200420128, 21200440046, 21200520041-21200520047, 21200530021, 21200540057-21200540059, 21200720106

Status: Unutilized

Reason: Extensive deterioration

Bldg. 108, Fredrick J ILL, Jr. USARC

Bullville Co: Orange NY 10915-0277

Landholding Agency: Army

Property Number: 21200510028

Status: Unutilized

Reason: Secured Area

Bldgs. 107, 112, 113

Kerry P. Hein USARC NY058

Shoreham Co: Suffolk NY 11778-9999

Landholding Agency: Army

Property Number: 21200510054

Status: Excess

Reason: Secured Area

10 Bldgs., Fort Hamilton

Brooklyn NY 11252

Landholding Agency:

Property Number: 21200740150-21200740153

Status: Underutilized

Reason: Secured Area

North Carolina

406 Bldgs. Fort Bragg

Ft. Bragg Co: Cumberland NC 28307

Landholding Agency: Army

Property Number: 219640074, 219710102-219710110, 219710224, 219810167, 21200410056, 21200430042, 21200440050-21200440051, 21200530029-21200530047, 21200540060, 21200610020, 21200620024-21200620039, 21200630029-21200630053, 21200640053-21200640060, 21200640114, 21200720029-21200720035, 21200740020-21200740023, 21200740154-21200740159

Status: Unutilized

Reason: Extensive deterioration

3 Bldgs., Military Ocean Terminal

Southport Co: Brunswick NC 28461-5000

Landholding Agency: Army

Property Number: 219810158-219810160, 21200330032

Status: Unutilized

Reason: Secured Area

North Dakota

Bldgs. 440, 455, 456, 3101, 3110

Stanley R. Mickelsen

Nekoma Co: Cavalier ND 58355

Landholding Agency: Army

Property Number: 21199940103-21199940107

Status: Unutilized

Reason: Extensive deterioration

Ohio

186 Bldgs.

Ravenna Army Ammunition Plant

Ravenna Co: Portage OH 44266-9297

Landholding Agency: Army

Property Number: 21199840069-21199840104, 21200240064, 21200420131-21200420132, 21200530051-21200530052

Status: Unutilized

Reason: Secured Area

7 Bldgs., Lima Army Tank Plant

Lima OH 45804-1898

Landholding Agency: Army

Property Number: 219730104-219730110

Status: Unutilized

Reason: Secured Area

Bldg. 201, Defense Supply Center

Columbus Co: Franklin OH 43216

Landholding Agency: Army

Property Number: 21200640061

Status: Unutilized

Reason: Secured Area

Oklahoma

26 Bldgs., Fort Sill

Lawton Co: Comanche OK 73503

Landholding Agency: Army

Property Number: 219510023, 21200330065, 21200430043, 21200530053-21200530060

Status: Unutilized

Reason: Extensive deterioration

Bldgs. MA050, MA070, Regional Training Institute

Oklahoma City Co: OK 73111

Landholding Agency: Army

Property Number: 21200440052

Status: Unutilized

Reason: Extensive deterioration

Bldgs. GRM03, GRM24, GRM26, GRM34

Camp Gruber Training Site

Braggs Co: OK 74423

Landholding Agency: Army

Property Number: 21200510029-21200510032

Status: Unutilized

Reason: Extensive deterioration

28 Bldgs., McAlester Army Ammo Plant

McAlester Co: Pittsburg OK 74501

Landholding Agency: Army

Property Number: 21200510033-21200510039, 21200520048, 21200740024-21200740025

Status: Excess

Reason: Secured Area

Oregon

11 Bldgs.

Tooele Army Depot

Umatilla Depot Activity

Hermiston Co: Morrow/Umatilla OR 97838

Landholding Agency: Army

Property Number: 219012174-219012176, 219012178-219012179, 219012190-219012191, 219012197-219012198, 219012217, 219012229

Status: Underutilized

Reason: Secured Area

34 Bldgs.

Tooele Army Depot

Umatilla Depot Activity

Hermiston Co: Morrow/Umatilla OR 97838-

Landholding Agency: Army

Property Number: 219012177, 219012185-219012186, 219012189, 219012195-219012196, 219012199-219012205, 219012207-219012208, 219012225, 219012279, 219014304-219014305, 219014782, 219030362-219030363, 219120032, 21199840108-21199840110, 21199920084-21199920090

Status: Unutilized

Reason: Secured Area

Pennsylvania

23 Bldgs., Fort Indiantown Gap

Annville Co: Lebanon PA 17003-5011

Landholding Agency: Army

Property Number: 219810183-219810190

Status: Unutilized

Reason: Extensive deterioration

Bldgs. 00026, 00123

Defense Distribution Depot

New Cumberland Co: York PA 17070-5001

Landholding Agency: Army

Property Number: 21200640063

Status: Unutilized

Reason: Extensive deterioration

Bldg. 01006, Tobyhanna Army Depot

Tobyhanna Co: Monroe PA 18466

Landholding Agency: Army

Property Number: 21200330068

Status: Unutilized

Reason: Extensive deterioration

52 Bldgs.

Letterkenny Army Deport

Chambersburg Co: Franklin PA 17201

Landholding Agency: Army

Property Number: 21200420134-21200420144, 21200430045-21200430051, 21200630054-21200630063, 21200640062

Status: Unutilized

Reasons: Within 2000 ft. of flammable or explosive material, Secured Area, Extensive deterioration

6 Bldgs. Carlisle Barracks

Cumberland Co: PA 17013

Landholding Agency: Army

Property Number: 21200540062, 21200640115, 21200720107, 21200740026

Status: Excess

Reason: Extensive deterioration

Puerto Rico

39 Bldgs., Fort Buchanan

Guaynabo Co: PR 00934

Landholding Agency: Army

Property Number: 21200530061-21200530063, 21200610023, 21200620041

Status: Unutilized

Reason: Secured Area (Some are extensively deteriorated)

South Carolina

41 Bldgs., Fort Jackson

Ft. Jackson Co: Richland SC 29207

Landholding Agency: Army

Property Number: 219440237, 219440239, 219620312, 219620317, 219620348, 219620351, 219640138-219640139, 21199640148-21199640149, 219720095, 219720097, 219730130, 219730132, 219730145-219730157, 219740138, 219820102-219820111, 219830139-219830157, 21200520050

Status: Unutilized

Reason: Extensive deterioration

South Dakota

Bldgs. 00038, 00039

Lewis & Clark USARC

Bismarck SD 58504

Landholding Agency: Army

Property Number: 21200710033

Status: Unutilized

Reasons: Secured Area

Tennessee

89 Bldgs., Holston Army Ammunition Plant

Kingsport Co: Hawkins TN 61299-6000

Landholding Agency: Army

Property Number: 219012304-219012309, 219012311-219012312, 219012314, 219012316-219012317, 219012328, 219012330, 219012332, 219012334, 219012337, 219013790, 219140613, 219440212-219440216, 219510025-219510027, 21200230035, 21200310040, 21200320054-21200320073, 21200340056, 21200510042, 21200530064-21200530065, 21200640069-21200640072, 21200710035, 21200740160

Status: Unutilized

Reason: Secured Area (Some are within 2000 ft. of flammable or explosive material)

54 Bldgs., Milan Army Ammunition Plant

Milan Co: Gibson TN 38358

Landholding Agency: Army

Property Number: 219240447-219240449, 21200520051-21200520052, 21200640064-21200640068, 21200740027-21200740029

Status: Unutilized

Reason: Secured Area (Some are extensively deteriorated)

Bldg. Z-183A

Milan Army Ammunition Plant

Milan Co: Gibson TN 38358

Landholding Agency: Army

Property Number: 219240783

Status: Unutilized

Reason: Within 2000 ft. of flammable or explosive material

141 Bldgs., Fort Campbell

Ft. Campbell Co: Montgomery TN 42223

Landholding Agency: Army

Property Number: 21200220023, 21200240065, 21200330094- 21200330100, 21200430052-2100430054, 21200440057-21200440058, 21200510043, 21200520053-21200520062, 21200540063-21200540069, 21200610024-21200610031, 21200620042-21200620044, 21200620064, 21200710034

Status: Unutilized

Reason: Extensive deterioration

Texas

20 Bldgs., Lone Star Army Ammunition Plant

Highway 82 West

Texarkana Co: Bowie TX 75505-9100

Landholding Agency: Army

Property Number: 219012524, 219012529, 219012533, 219012536, 219012539-219012540, 219012542, 219012544-219012545, 219030337-219030345

Status: Unutilized

Reasons: Within 2000 ft. of flammable or explosive material; Secured Area

154 Bldgs.

Longhorn Army Ammunition Plant

Karnack Co: Harrison TX 75661—

Landholding Agency: Army

Property Number: 219620827, 21200340062-21200340073

Status: Unutilized

Reason: Secured Area (Most are within 2000 ft. of flammable or explosive material)

16 Bldgs., Red River Army Depot

Texarkana Co: Bowie TX 75507-5000

Landholding Agency: Army

Property Number: 219420315-219420327, 219430095-219430097

Status: Unutilized

Reason: Secured Area (Some are extensively deteriorated)

104 Bldgs. Fort Bliss

El Paso Co: El Paso TX 79916

Landholding Agency: Army

Property Number: 219730160-219730186, 219830161-219830197, 21200310044, 21200320079, 21200340059, 21200540070-21200540073, 21200640073-21200640075, 21200710036, 21200740030, 21200740161

Status: Unutilized

Reason: Extensive deterioration

8 Bldgs., Fort Hood

Ft. Hood Co: Bell TX 76544

Landholding Agency: Army

Property Number: 21200420146, 21200720108-21200720111

Status: Unutilized

Reason: Extensive deterioration

Bldgs. 05110, 06088, Fort Sam Houston

Camp Bullis Co: Bexar TX

Landholding Agency: Army

Property Number: 21200520063

Status: Excess

Reason: Extensive deterioration

Bldg. D5040, Grand Prairie Reserve Complex

Tarrant Co: TX 75051

Landholding Agency: Army

Property Number: 21200620045

Status: Unutilized

Reasons: Secured Area, Extensive deterioration

Utah

39 Bldgs.

Tooele Army Depot

Tooele Co: Tooele UT 84074-5008

Landholding Agency: Army

Property Number: 21200620046, 21200640076, 21200710037-21200710041, 21200740162-21200740165

Status: Unutilized

Reason: Secured Area

Bldg. 9307

Dugway Proving Ground

Dugway Co: Toole UT 84022-

Landholding Agency: Army

Property Number: 219013997

Status: Underutilized

Reason: Secured Area

13 Bldgs.

Deseret Chemical Depot

Tooele UT 84074

Landholding Agency: Army

Property Number: 219820120-219820121, 21200610032-21200610034, 21200620047, 21200720036-21200720037

Status: Unutilized

Reason: Secured Area

Extensive deterioration

Bldgs. 00259, 00206

Ogden Maintenance Center

Weber Co: UT 84404

Landholding Agency: Army

Property Number: 21200530066

Status: Excess

Reason: Secured Area

Virginia

363 Bldgs.

Radford Army Ammunition Plant

Radford Co: Montgomery VA 24141-

Landholding Agency: Army

Property Number: 219010833, 219010836, 219010842, 219010844, 219010847-219010890, 219010892-219010912, 219011521-219011577, 219011581-219011583, 219011585, 219011588, 219011591, 219013559-219013570, 219110142-219110143, 219120071, 219140618-219140633, 219220210-219220218, 219230100-219230103, 219240324, 219440219-219440225, 219510032-219510033, 219520037, 219520052, 219530194, 219610607-219610608, 219830223-219830267, 21200020079-21200020081, 21200230038, 21200240071-21200240072, 21200510045-21200510046, 21200740031-21200740032, 21200740169-21200740171

Status: Unutilized

Reason: Within 2000 ft. of flammable or explosive material Secured Area

(Some are extensively deteriorated)

13 Bldgs., Radford Army Ammunition Plant

Radford Co: Montgomery VA 24141-

Landholding Agency: Army

Property Number: 219010834-219010835, 219010837-219010838, 219010840-219010841, 219010843, 219010845-219010846, 219010891, 219011578-219011580

Status: Unutilized

Reason: Within 2000 ft. of flammable or explosive material Secured Area

Latrine, detached structure

63 Bldgs.

U.S. Army Combined Arms Support Command

Fort Lee Co: Prince George VA 23801-

Landholding Agency: Army

Property Number: 219240107, 219620866-219620876, 219740156, 219830208-219830210, 21199940130, 21200430059-21200430060, 21200620048, 21200630064, 21200640077-21200640080, 21200710042, 21200740033-21200740035, 21200740166

Status: Unutilized

Reason: Extensive deterioration

(Some are in a secured area.)

56 Bldgs.

Red Water Field Office

Radford Army Ammunition Plant

Radford VA 24141

Landholding Agency: Army

Property Number: 219430341-219430396

Status: Unutilized

Reason: Within 2000 ft. of flammable or explosive material Secured Area

85 Bldgs., Fort A.P. Hill

Bowling Green Co: Caroline VA 22427

Landholding Agency: Army

Property Number: 21200310058, 21200310060, 21200410069-21200410076, 21200430057, 21200510051, 21200740167

Status: Unutilized

Reason: Secured Area

Extensive deterioration

61 Bldgs., Fort Belvoir

Ft. Belvoir Co: Fairfax VA 22060-5116

Landholding Agency: Army

Property Number: 21200130076-21200130077, 21200710043-21200710049, 21200720043-21200720051

Status: Unutilized

Reason: Extensive deterioration

13 Bldgs., Fort Eustis

Ft. Eustis Co. VA 23604

Landholding Agency: Army

Property Number: 21200210025-21200210026, 21200740037, 21200740168

Status: Unutilized

Reason: Extensive deterioration

58 Bldgs.

Fort Pickett

Blackstone Co: Nottoway VA 23824

Landholding Agency: Army

Property Number: 21200220087-21200220092, 21200320080-21200320087, 21200620049-21200620052, 21200720042

Status: Unutilized

Reason: Extensive deterioration

Bldg. 00723, Fort Story

Ft. Story Co: Princess Ann VA 23459

Landholding Agency: Army

Property Number: 21200310046

Status: Unutilized

Reason: Extensive deterioration

13 Bldgs., Defense Supply Center

Richmond VA 23297

Landholding Agency: Army

Property Number: 21200720038-21200720040, 21200720112, 21200740036

Washington

693 Bldgs., Fort Lewis

Ft. Lewis Co: Pierce WA 98433-5000

Landholding Agency: Army

Property Number: 219610006, 219610009-219610010, 219610045-219610046, 219620512-219620517, 219640193, 219720142-219720151, 219810205-219810242, 219820132, 21199910064-21199910078, 21199920125-21199920174, 21199930080-21199930104, 21199940134, 21200120068, 21200140072-21200140073, 21200210075, 21200220097, 21200330104-21200330106, 21200430061, 21200620053-21200620059, 21200630067-21200630069, 21200640087-21200640090, 21200740172

Status: Unutilized

Reason: Secured Area

Extensive deterioration

Bldg. HBC07, Fort Lewis

Huckleberry Creek Mountain Training Site

Co: Pierce WA

Landholding Agency: Army

Property Number: 219740166

Status: Unutilized

Reason: Extensive deterioration

Bldg. 415, Fort Worden

Port Angeles Co: Clallam WA 98362

Landholding Agency: Army

Property Number: 21199910062

Status: Excess

Reason: Extensive deterioration

Bldg. U515A, Fort Lewis

Ft. Lewis Co: Pierce WA 98433

Landholding Agency: Army

Property Number: 21199920124

Status: Excess

Reason: gas chamber

Bldgs. 02401, 02402

Vancouver Barracks Cemetery

Vancouver Co: WA 98661

Landholding Agency: Army

Property Number: 21200310048

Status: Unutilized

Reason: Extensive deterioration

4 Bldgs. Renton USARC

Renton Co: WA 980058

Landholding Agency: Army

Property Number: 21200310049

Status: Unutilized

Reason: Extensive deterioration

Wisconsin

5 Bldgs.

Badger Army Ammunition Plant

Baraboo Co: Sauk WI 53913—

Landholding Agency: Army

Property Number: 219011209-219011210, 219011217

Status: Underutilized

Reason: Within 2000 ft. of flammable or explosive material Friable asbestos Secured Area

153 Bldgs.

Badger Army Ammunition Plant

Baraboo Co: Sauk WI 53913—

Landholding Agency: Army

Property Number: 219011104, 219011106, 219011108-219011113, 219011115-219011117, 219011119-219011120, 219011122-219011139, 219011141-219011142, 219011144, 219011148-219011208, 219011213-219011216, 219011218-219011234, 219011236, 219011238, 219011240, 219011242, 219011244, 219011247, 219011249, 219011251, 219011256, 19011259, 219011263, 219011265, 219011268, 219011270, 219011275, 219011277, 219011280, 219011282, 219011284, 219011286, 219011290, 219011293, 219011295, 219011297, 219011300, 219011302, 219011304-219011311, 219011317, 219011319-219011321, 219011323

Status: Unutilized

Reason: Within 2000 ft. of flammable or explosive material Friable asbestos Secured Area

4 Bldgs.

Badger Army Ammunition Plant

Baraboo Co: Sauk WI

Landholding Agency: Army

Property Number: 219013871-219013873, 219013875

Status: Underutilized

Reason: Secured Area

906 Bldgs.

Badger Army Ammunition Plant

Baraboo Co: Sauk WI

Landholding Agency: Army

Property Number: 219013876-219013878, 219210097-219210099, 219220295-219220311, 219510065, 219510067, 219510069-219510077, 219740184-219740271, 21200020083-21200020155, 21200240074-21200240080

Status: Unutilized

Reason: (Most are in a secured area)

(Most are within 2000 ft. of flammable or explosive material)

(Some are extensively deteriorated)

Land (by State)

Indiana

Newport Army Ammunition Plant

East of 14th St. & North of S. Blvd.

Newport Co: Vermillion IN 47966-

Landholding Agency: Army

Property Number: 219012360

Status: Unutilized

Reason: Within 2000 ft. of flammable or explosive material Secured Area

Maryland

Approx. 1 acre

Fort Meade

Anne Arundel MD 20755

Landholding Agency: Army

Property Number: 21200740017

Status: Unutilized

Reasons: Other—no public access

Minnesota

Portion of R.R. Spur

Twin Cities Army Ammunition Plant

New Brighton Co: Ramsey MN 55112

Landholding Agency: Army

Property Number: 219620472

Status: Unutilized

Reason: Landlocked

New Jersey

Land

Armament Research Development & Eng. Center

Route 15 North

Picatinny Arsenal Co: Morris NJ 07806

Landholding Agency: Army

Property Number: 219013788

Status: Unutilized

Reason: Secured Area

Spur Line/Right of Way

Armament Rsch., Dev., & Eng. Center

Picatinny Arsenal Co: Morris NJ 07806-5000

Landholding Agency: Army

Property Number: 219530143

Status: Unutilized

Reason: Floodway

2.0 Acres, Berkshire Trail

Armament Rsch., Dev., & Eng. Center

Picatinny Arsenal Co: Morris NJ 07806-5000

Landholding Agency: Army

Property Number: 21199910036

Status: Underutilized

Reasons: Within 2000 ft. of flammable or explosive material Secured Area

Texas

Land—Approx. 50 acres

Lone Star Army Ammunition Plant

Texarkana Co: Bowie TX 75505-9100

Landholding Agency: Army

Property Number: 219420308

Status: Unutilized

Reason: Secured Area

[FR Doc. E8-4186 Filed 3-6-08; 8:45 am]

BILLING CODE 4210-67-P